ENVIRONMENTAL PROTECTION AGENCY

40 CFR Part 52

[EPA-R10-OAR-2021-0319; FRL-8742-02-R10]

Air Plan Approval; WA; Update to Materials Incorporated by Reference

AGENCY: Environmental Protection Agency (EPA).

ACTION: Final rule; administrative change.

SUMMARY: The Environmental Protection Agency (EPA) is updating the regulatory materials incorporated by reference into the Washington State Implementation Plan (SIP). The regulations addressed in this action were previously submitted by the Washington Department of Ecology and approved by the EPA in prior rulemakings. This action is an administrative change that updates the SIP materials available for public inspection at the National Archives and Records Administration and the EPA Regional Office.

DATES: This action is effective August 3, 2021.

ADDRESSES: SIP materials which are incorporated by reference into 40 CFR part 52 are available for inspection at the following locations: Online at https://www.regulations.gov in the docket for this action, by appointment at the Environmental Protection Agency, Region 10, 1200 Sixth Avenue, Suite 155, Seattle, WA 98101, and by appointment at the National Archives and Records Administration (NARA). For information on the availability of this material at the EPA Regional Office, please contact the person in the FOR FURTHER INFORMATION CONTACT section of this document. For information on the availability of this material at NARA, email fedreg.legal@nara.gov, or go to: https://www.archives.gov/federal-register/cfr/ibr-locations.html.

FOR FURTHER INFORMATION CONTACT: Jeff Hunt, EPA Region 10, 1200 Sixth Avenue—Suite 155, Seattle, WA 98101, at (206) 553-0256, or hunt.jeff@epa.gov.

SUPPLEMENTARY INFORMATION:

I. Background

The SIP is a living document revised by the state to address its unique and changing air pollution problems. As such, the state submits SIP revisions to the EPA and the EPA acts on those revisions and incorporates new and revised State regulations by reference into the Code of Federal Regulations (CFR).

On May 22, 1997, the EPA and the Office of the Federal Register (OFR) streamlined the incorporation by reference (IBR) procedures for SIPs (62 FR 27968). For a detailed description of the revised IBR procedures, please see the May 22, 1997 publication (62 FR 27968).

On March 20, 2013, the EPA published a Federal Register beginning the new IBR procedure for Washington (78 FR 17108). The EPA subsequently published updates to the IBR material for Washington on December 8, 2014 (79 FR 72548), April 12, 2016 (70 FR 21470), and February 8, 2019 (84 FR 2738).

A. Approved and Incorporated by Reference Regulatory Materials

Since the last IBR update, the EPA approved and incorporated by reference the following regulatory materials into the Washington SIP:

Table 1—Regulations Approved Statewide

• Washington Administrative Code, Chapter 173-405, Kraft Pulping Mills, sections 021 (Definitions), 072 (Monitoring Requirements), 086 (New Source Review (NSR)), and 087 (Prevention of Significant Deterioration (PSD)). For more information, see 85 FR 10983 (February 26, 2020).

• Washington Administrative Code, Chapter 173-410, Sulfite Pulping Mills, sections 021 (Definitions), 062 (Monitoring Requirements), 086 (New Source Review (NSR)), and 087 (Prevention of Significant Deterioration (PSD)). For more information, see 85 FR 10983 (February 26, 2020).

• Washington Administrative Code, Chapter 173-415, Primary Aluminum Plants, sections 015 (Applicability), 020 (Definitions), and 060 (Monitoring and Reporting). For more information, see 85 FR 10983 (February 26, 2020).

Table 2—Additional Regulations Approved for Washington Department of Ecology (Ecology) Direct Jurisdiction

• Washington Administrative Code, Chapter 173-400, General Regulations for Air Pollution Sources, sections 025 (Adoption of Federal Rules), 030 (Definitions), 040 (General Standards for Maximum Emissions), 050 (Emission Standards for Combustion and Incineration Units), 060 (Emission Standards for General Process Units), 105 (Records, Monitoring, and Reporting), 171 (Public Notice and Opportunity for Public Comment), and 740 (PSD Permitting Public Involvement Requirements). For more information, see 85 FR 10301 (February 24, 2020).

Table 3—Additional Regulations Approved for the Energy Facilities Site Evaluation Council (EFSEC) Jurisdiction

• Washington Administrative Code, Chapter 463-78, General and Operating Permit Regulations for Air Pollution Sources, section 005 (Adoption by Reference). For more information, see 85 FR 4233 (January 24, 2020).

• Washington Administrative Code, Chapter 173-400, General Regulations for Air Pollution Sources, sections 025 (Adoption of Federal Rules), 030 (Definitions), 040 (General Standards for Maximum Emissions), 050 (Emission Standards for Combustion and Incineration Units), 060 (Emission Standards for General Process Units), 105 (Records, Monitoring, and Reporting), 111 (Processing Notice of Construction Applications for Sources, Stationary Sources and Portable Sources), 116 (Increment Protection), 171 (Public Notice and Opportunity for Public Comment), 710 (Definitions), 720 (Prevention of Significant Deterioration (PSD), 730 (Prevention of Significant Deterioration Application Processing Procedures), 740 (PSD Permitting Public Involvement Requirements), 810 (Major Stationary Source and Major Modification Definitions), 830 (Permitting Requirements), 840 (Emission Offset Requirements), and 850 (Actual Emissions Plantwide Applicability Limitation (PAL). For more information, see 85 FR 4233 (January 24, 2020).

Table 4—Additional Regulations Approved for the Benton Clean Air Agency (BCAA) Jurisdiction

• Washington Administrative Code, Chapter 173-400, General Regulations for Air Pollution Sources, sections 025 (Adoption of Federal Rules), 030 (Definitions), 040 (General Standards for Maximum Emissions), 050 (Emission Standards for Combustion and Incineration Units), 060 (Emission Standards for General Process Units), 105 (Records, Monitoring, and Reporting), and 171 (Public Notice and Opportunity for Public Comment). For more information, see 85 FR 10301 (February 24, 2020).

Table 5—Additional Regulations Approved for the Northwest Clean Air Agency (NWCAA) Jurisdiction

• Regulation of the Northwest Clean Air Agency, sections 100 (Name of Agency), 101 (Short Title), 102 (Policy), 200 (Definitions), 300 (New Source Review), 305 (Public Involvement), 320 (Registration Program), and 321 (Exemptions from Registration). For more information, see 85 FR 36154 (June 15, 2020).

• Washington Administrative Code, Chapter 173-400, General Regulations for Air Pollution Sources, sections 020 (Applicability), 025 (Adoption of Federal Rules), 030 (Definitions), 050 (Emission Standards for Combustion and Incineration Units), 060 (Emission Standards for General Process Units), 091 (Voluntary Limits on Emissions), 111 (Processing Notice of Construction Applications for Sources, Stationary Sources and Portable Sources), 112 (Requirements for New Sources in Nonattainment Areas—Review for Compliance with Regulations), 113 (New Sources in Attainment or Unclassifiable Areas—Review for Compliance with Regulations), 117 (Special Protection Requirements for Federal Class I Areas), 118 (Designation of Class I, II, and III Areas), 131 (Issuance of Emission Reduction Credits), 136 (Use of Emission Reduction Credits (ERC)), 151 (Retrofit Requirements for Visibility Protection), 171 (Public Notice and Opportunity for Public Comment), 200 (Creditable Stack Height and Dispersion Techniques), 800 (Major Stationary Source and Major Modification in a nonattainment Area), 810 (Major Stationary Source and Major Modification Definitions), 820 (Determining if a New Stationary Source or Modification to a Stationary Source is Subject to these Requirements), 830 (Permitting Requirements), 840 (Emission Offset Requirements), 173-400-850 (Actual Emissions Plantwide Applicability Limitation (PAL)), and 860 (Public Involvement Procedures). For more information, see 85 FR 36154 (June 15, 2020).

Table 7—Additional Regulations Approved for the Puget Sound Clean Air Agency (PSCAA) Jurisdiction

• Puget Sound Clean Air Agency Regulation I, sections 1.01 (Policy), 1.07 (Definitions), 3.03(f) (General Regulatory Orders), 3.04 (Reasonably Available Control Technology), 3.25 (Federal Regulation Reference Date), 5.03 (Applicability of Registration Program), 5.05 (Registration Requirements), 6.01 (Components of New Source Review Program), 6.03 (Notice of Construction), 6.09 (Notice of Completion), 6.10 (Work Done without an Approval), 7.09 (General Reporting Requirements for Operating Permits), 9.03 (Emission of Air Contaminant: Visual Standard), 9.04 (Opacity Standards for Equipment with Continuous Opacity Monitoring Systems), 9.07 (Sulfur Dioxide Emission Standard), 9.08 (Fuel Oil Standards), 9.09 (Particulate Matter Emission Standards), 9.11(a) (Emission of Air Contaminant: Detriment to Person or Property), 9.13 (Emission of Air Contaminant: Concealment and Masking Restricted), 9.15 (Fugitive Dust Control Measures), 9.16 (Spray-Coating Operations), 9.18 (Crushing Operations), and 12.03 (Continuous Emission Monitoring Systems). For more information, see 85 FR 22355 (April 22, 2020).

• Washington Administrative Code, Chapter 173-400 Regulations Incorporated by Reference in Regulation I, sections 030 (Definitions), 081 (Startup and Shutdown), 110 (New Source Review (NSR) for Sources and Portable Sources, 111 (Processing Notice of Construction Applications for Sources, Stationary Sources and Portable Sources), 112 (Requirements for New Sources in Nonattainment Areas), 113 (Requirements for New Sources in Attainment or Unclassifiable Areas), 117 (Special Protection Requirements for Federal Class I Areas), 171 (Public Notice and Opportunity for Public Comment), 200 (Creditable Stack Height and Dispersion Techniques), 560 (General Order of Approval), 800 (Major Stationary Source and Major Modification in a Nonattainment Area), 810 (Major Stationary Source and Major Modification Definitions), 820 (Determining if a New Stationary Source or Modification to a Stationary Source is Subject to these Requirements), 830 (Permitting Requirements), 840 (Emission Offset Requirements), 850 (Actual Emissions Plantwide Applicability Limitation (PAL)), and 860 (Public Involvement Procedures). For more information, see 85 FR 22355 (April 22, 2020).

• Washington Administrative Code, Chapter 173-400, General Regulations for Air Pollution Sources, sections 020 (Applicability), 040 (General Standards for Maximum Emissions), 070 (Emission Standards for Certain Source Categories), 091 (Voluntary Limits on Emissions), 105 (Records, Monitoring and Reporting), 118 (Designation of Class I, II, and III Areas), 131 (Issuance of Emission Reduction Credits), 136 (Use of Emission Reduction Credits (ERC)), 151 (Retrofit Requirements for Visibility Protection), and 175 (Public Information). For more information, see 85 FR 22355 (April 22, 2020).

Table 9—Additional Regulations Approved for the Spokane Regional Clean Air Agency (SRCAA) Jurisdiction

• Spokane Regional Clean Air Agency Regulation I, sections 1.01 (Policy), 1.02 (Name of Agency), 1.03 (Short Title), 1.04 (General Definitions), 1.05 (Acronym Index), 2.08 (Falsification of Statements or Documents, and Treatment of Documents), 2.09 (Source Tests), 2.13 (Federal and State Regulation Reference Date), 2.14 (Washington Administrative Codes (WACS)), 4.03 (Registration Exemptions), 4.04 (Stationary Sources and Source Categories Subject to Registration), 4.05 (Closure of a Stationary Source or Emissions Unit(s)), 5.02 (New Source Review—Applicability and when Required), 5.03 (NOC and PSP Fees), 5.04 (Information Required), 5.05 (Public Involvement), 5.06 (Application Completeness Determination), 5.07 (Processing NOC Applications for Stationary Sources), 5.08 (Portable Sources), 5.09 (Operating Requirements for Order of Approval and Permission to Operate), 5.10 (Changes to an Order of Approval or Permission to Operate), 5.11 (Notice of Startup of a Stationary Source or a Portable Source), 5.12 (Work Done Without an Approval), 5.13 (Order of Approval Construction Time Limits), 5.14 (Appeals), 5.15 (Obligation to Comply), 6.04 (Emission of Air Contaminant: Detriment to Person or Property), 6.05 (Particulate Matter & Preventing Particulate Matter from Becoming Airborne), 6.07 (Emission of Air Contaminant Concealment and Masking Restricted), 6.14 (Standards for Control of Particulate Matter on Paved Surfaces), and 6.15 (Standards for Control of Particulate Matter on Unpaved Roads). For more information, see 86 FR 24718 (May 10, 2021).

• Washington Administrative Code, Chapter 173-400, General Regulations for Air Pollution Sources, sections 020 (Applicability), 030 (Definitions), 040 (General Standards for Maximum Emissions), 050 (Emission Standards for Combustion and Incineration Units), 060 (Emission Standards for General Process Units), 091 (Voluntary Limits on Emissions), 105 (Records, Monitoring and Reporting), 112 (Requirements for New Sources in Nonattainment Areas), 113 (Requirements for New Sources in Attainment or Unclassifiable Areas), 117 (Special Protection Requirements for Federal Class I Areas), 118 (Designation of Class I, II, and III Areas), 131 (Issuance of Emission Reduction Credits), 136 (Use of Emission Reduction Credits (ERC)), 151 (Retrofit Requirements for Visibility Protection), 175 (Public Information), 200 (Creditable Stack Height and Dispersion Techniques), 560 (General Order of Approval), 800 (Major Stationary Source and Major Modification in a Nonattainment Area), 810 (Major Stationary Source and Major Modification Definitions), 820 (Determining if a New Stationary Source or Modification to a Stationary Source is Subject to these Requirements), 830 (Permitting Requirements), 840 (Emission Offset Requirements), 850 (Actual Emissions Plantwide Applicability Limitation (PAL)), and 860 (Public Involvement Procedures). For more information, see 86 FR 24718 (May 10, 2021).

EPA-Approved State of Washington Source-Specific Requirements

• Tyson Fresh Meats, Inc, Order No. 13AQ-E526, state effective April 16, 2014. For more information, see 85 FR 25303 (May 1, 2020).

• Packaging Corporation of America (Wallula Mill), Permit No. 0003697, state effective April 1, 2018. For more information, see 85 FR 25303 (May 1, 2020).

• Simplot Feeders Limited Partnership, Fugitive Dust Control Plan, state effective March 1, 2018. For more information, see 85 FR 25303 (May 1, 2020).

• TransAlta Centralia BART—Second Revision, Order No. 6426, state effective July 29, 2020. For more information, see 86 FR 24502 (May 7, 2021).

B. Regulatory Materials Removed From Incorporation by Reference in the SIP

Table 1—Regulations Approved Statewide

• Washington Administrative Code, Chapter 173-422, Motor Vehicle Emission Inspection, sections 010 (Purpose), 020 (Definitions), 030 (Vehicle Emission Inspection Requirement), 031 (Vehicle Emission Inspection Schedules), 035 (Registration Requirements), 040 (Noncompliance Areas), 050 (Emission Contributing Areas), 060 (Gasoline Vehicle Emission Standards), 065 (Diesel Vehicle Exhaust Emission Standards), 070 (Gasoline Vehicle Exhaust Emission Testing Procedures), 075 (Diesel Vehicle Inspection Procedure), 090 (Exhaust Gas Analyzer Specifications), 095 (Exhaust Opacity Testing Equipment), 100 (Testing Equipment Maintenance and Calibration), 120 (Quality Assurance), 145 (Fraudulent Certificates of Compliance/Acceptance), 160 (Fleet and Diesel Owner Vehicle Testing Requirements), 170 (Exemptions), 175 (Fraudulent Exemptions), 190 (Emission Specialist Authorization), and 195 (Listing of Authorized Emission Specialists). For more information, see 86 FR 10026 (February 18, 2021) and 86 FR 13658 (March 10, 2021).

Table 9—Additional Regulations Approved for the Spokane Regional Clean Air Agency (SRCAA) Jurisdiction

• Spokane Regional Clean Air Agency Regulation II, sections 4.01 (Particulate Emissions—Grain Loading Restrictions). For more information, see 86 FR 24718 (May 10, 2021).

• Washington Administrative Code, Chapter 173-400, General Regulations for Air Pollution Sources, section 100 (Registration) and any formerly approved Chapter 173-400 WAC provisions which are replaced by local agency corollaries. For more information, see 86 FR 24718 (May 10, 2021).

EPA-Approved State of Washington Source-Specific Requirements

• IBP (now known as Tyson Foods, Inc.) Order, Order No. 02AQER-5074, state effective December 6, 2002. For more information, see 85 FR 25303 (May 1, 2020).

• Boise White Paper LLC Permit, Permit No. 000369-7, state effective May 2, 2005. For more information, see 85 FR 25303 (May 1, 2020).

• Fugitive Dust Control Plan for Simplot Feeders Limited Partnership, state effective December 1, 2003. For more information, see 85 FR 25303 (May 1, 2020).

• TransAlta Centralia BART, Order No. 6426, state effective December 13, 2011. For more information, see 86 FR 24502 (May 7, 2021).

II. EPA Action

In this action, the EPA is updating the regulatory materials incorporated by reference into the Washington SIP at 40 CFR 52.2470(c) and (d) as of May 31, 2021. The EPA has determined that this rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Incorporation by Reference

In this document, EPA is finalizing regulatory text that includes incorporation by reference. In accordance with requirements of 1 CFR 51.5, EPA is finalizing the incorporation by reference of Washington State provisions and source-specific requirements as set forth in the amendments to § 52.2470 as set forth below. EPA has made, and will continue to make, these materials generally available through www.regulations.gov and at the EPA Region 10 Office (please contact the person identified in the FOR FURTHER INFORMATION CONTACT section of this preamble for more information).

IV. Statutory and Executive Order Reviews

Under the Clean Air Act (CAA), the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

The SIP is not approved to apply on any Indian reservation land in Washington except as specifically noted below and is also not approved to apply in any other area where the EPA or an Indian tribe has demonstrated that a tribe has jurisdiction. In those areas of Indian country, the rule does not have tribal implications as specified by Executive Order 13175 (65 FR 67249, November 9, 2000). Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

The EPA has also determined that the provisions of section 307(b)(1) of the CAA pertaining to petitions for judicial review are not applicable to this action. Prior EPA rulemaking actions for each individual component of the Washington SIP compilations had previously afforded interested parties the opportunity to file a petition for judicial review in the United States Court of Appeals for the appropriate circuit within 60 days of such rulemaking action. Thus, the EPA sees no need in this action to reopen the 60-day period for filing such petitions for judicial review for this “Identification of plan” update action for Washington.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 20, 2021.
Michelle L. Pirzadeh,
Acting Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart WW—Washington

2. Amend § 52.2470 by revising paragraphs (b), (c), and (d) to read as follows:

§ 52.2470 Identification of plan.

* * * * *

(b) Incorporation by reference. (1) Material listed as incorporated by reference in paragraphs (c) and (d) of this section was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after May 31, 2021, will be incorporated by reference in the next update to the SIP compilation.

(2)(i) EPA Region 10 certifies that the rules and regulations provided by EPA at the addresses in paragraph (b)(3) of this section are an exact duplicate of the officially promulgated State rules and regulations which have been approved as part of the State implementation plan as of May 31, 2021.

(ii) EPA Region 10 certifies that the source-specific requirements provided by EPA at the addresses in paragraph (b)(3) of this section are an exact duplicate of the officially promulgated source-specific requirements which have been approved in the notebook “40 CFR 52.2470(d)—Source Specific Requirements” as part of the State implementation plan as of May 31, 2021.

(3) Copies of the materials incorporated by reference may be inspected at the Environmental Protection Agency, Region 10, Air and Radiation Division, 1200 Sixth Avenue Suite 155, Seattle, Washington 98101; or at the National Archives and Records Administration (NARA). For information on the availability of this material at NARA, call (202) 741-6030, or go to: https://www.archives.gov/federal-register/cfr/ibr-locations.html.

(c) EPA approved regulations.

Table 1—Regulations Approved Statewide
[Not applicable in Indian reservations (excluding non-trust land within the exterior boundaries of the Puyallup Indian Reservation) and any other area where the EPA or an Indian tribe has demonstrated that a tribe has jurisdiction.]
State citation | Title/subject | State effective date | EPA approval date | Explanations
Washington Administrative Code, Chapter 173-405—Kraft Pulping Mills
173-405-012 | Statement of Purpose | 3/22/91 | 1/15/93, 58 FR 4578
173-405-021 | Definitions | 5/24/19 | 2/26/20, 85 FR 10984
173-405-040 | Emissions Standards | 3/22/91 | 1/15/93, 58 FR 4578 | Except sections (1)(b), (1)(c), (3)(b), (3)(c), (4), (7), (8) & (9).
173-405-045 | Creditable Stack Height & Dispersion Techniques | 3/22/91 | 1/15/93, 58 FR 4578
173-405-061 | More Restrictive Emission Standards | 3/22/91 | 1/15/93, 58 FR 4578
173-405-072 | Monitoring Requirements | 5/24/19 | 2/26/20, 85 FR 10984 | Except 173-405-072(2).
173-405-077 | Report of Startup, Shutdown, Breakdown or Upset Conditions | 3/22/91 | 1/15/93, 58 FR 4578
173-405-078 | Emission Inventory | 3/22/91 | 1/15/93, 58 FR 4578
173-405-086 | New Source Review (NSR) | 5/24/19 | 2/26/20, 85 FR 10984 | Except provisions related to WAC 173-400-114 and provisions excluded from our approval of WAC 173-400-110 through 173-400-113.
173-405-087 | Prevention of Significant Deterioration (PSD) | 5/24/19 | 2/26/20, 85 FR 10984 | Except 173-400-720(4)(a)(i through iv), 173-400-720(4)(b)(iii)(C), and 173-400-750(2) second sentence.
173-405-091 | Special Studies | 3/22/91 | 1/15/93, 58 FR 4578
Washington Administrative Code, Chapter 173-410—Sulfite Pulping Mills
173-410-012 | Statement of Purpose | 3/22/91 | 1/15/93, 58 FR 4578
173-410-021 | Definitions | 3/22/91 | 1/15/93, 58 FR 4578
173-410-040 | Emissions Standards | 3/22/91 | 1/15/93, 58 FR 4578 | Except the exception provision in (3) & section (5).
173-410-045 | Creditable Stack Height & Dispersion Techniques | 3/22/91 | 1/15/93, 58 FR 4578
173-410-062 | Monitoring Requirements | 5/24/19 | 2/26/20, 85 FR 10984
173-410-067 | Report of Startup, Shutdown, Breakdown or Upset Conditions | 3/22/91 | 1/15/93, 58 FR 4578
173-410-071 | Emission Inventory | 3/22/91 | 1/15/93, 58 FR 4578
173-410-086 | New Source Review (NSR) | 5/24/19 | 2/26/20, 85 FR 10984 | Except provisions related to WAC 173-400-114 and provisions excluded from our approval of WAC 173-400-110 through 173-400-113.
173-410-087 | Prevention of Significant Deterioration (PSD) | 5/24/19 | 2/26/20, 85 FR 10984 | Except 173-400-720(4)(a)(i through iv), 173-400-720(4)(b)(iii)(C), and 173-400-750(2) second sentence.
173-410-100 | Special Studies | 3/22/91 | 1/15/93, 58 FR 4578 |
Washington Administrative Code, Chapter 173-415—Primary Aluminum Plants
173-415-010 | Statement of Purpose | 3/22/91 | 1/15/93, 58 FR 4578
173-415-015 | Applicability | 5/24/19 | 2/26/20, 85 FR 10984 | Except 173-415-015(3).
173-415-020 | Definitions | 5/24/19 | 2/26/20, 85 FR 10984 | Except 173-415-020(6).
173-415-030 | Emissions Standards | 3/22/91 | 1/15/93, 58 FR 4578 | Except sections (1) & (3)(b).
173-415-060 | Monitoring and Reporting | 5/24/19 | 2/26/20, 85 FR 10984 | Except 173-415-060(1)(b).
173-415-070 | Report of Startup, Shutdown, Breakdown or Upset Conditions | 3/22/91 | 1/15/93, 58 FR 4578
Washington Administrative Code, Chapter 173-425—Open Burning
173-425-010 | Purpose | 10/18/90 | 1/15/93, 58 FR 4578
173-425-020 | Applicability | 10/18/90 | 1/15/93, 58 FR 4578
173-425-030 | Definitions | 10/18/90 | 1/15/93, 58 FR 4578
173-425-036 | Curtailment During Episodes or Impaired Air Quality | 10/18/90 | 1/15/93, 58 FR 4578
173-425-045 | Prohibited Materials | 1/3/89 | 1/15/93, 58 FR 4578
173-425-055 | Exceptions | 10/18/90 | 1/15/93, 58 FR 4578
173-425-065 | Residential Open Burning | 10/18/90 | 1/15/93, 58 FR 4578
173-425-075 | Commercial Open Burning | 10/18/90 | 1/15/93, 58 FR 4578
173-425-085 | Agricultural Open Burning | 10/18/90 | 1/15/93, 58 FR 4578
173-425-095 | No Burn Area Designation | 10/18/90 | 1/15/93, 58 FR 4578
173-425-100 | Delegation of Agricultural Open Burning Program | 10/18/90 | 1/15/93, 58 FR 4578
173-425-115 | Land Clearing Projects | 10/18/90 | 1/15/93, 58 FR 4578
173-425-120 | Department of Natural Resources Smoke Management Plan | 10/18/90 | 1/15/93, 58 FR 4578
173-425-130 | Notice of Violation | 10/18/90 | 1/15/93, 58 FR 4578
173-425-140 | Remedies | 10/18/90 | 1/15/93, 58 FR 4578
Washington Administrative Code, Chapter 173-430—Burning of Field and Forage and Turf Grasses Grown for Seed Open Burning
173-430-010 | Purpose | 10/18/90 | 1/15/93, 58 FR 4578
173-430-020 | Definitions | 10/18/90 | 1/15/93, 58 FR 4578
173-430-030 | Permits, Conditions, and Restrictions | 10/18/90 | 1/15/93, 58 FR 4578
173-430-040 | Mobile Field Burners | 10/18/90 | 1/15/93, 58 FR 4578
173-430-050 | Other Approvals | 10/18/90 | 1/15/93, 58 FR 4578
173-430-060 | Study of Alternatives | 10/18/90 | 1/15/93, 58 FR 4578
173-430-070 | Fees | 10/18/90 | 1/15/93, 58 FR 4578
173-430-080 | Certification of Alternatives | 10/18/90 | 1/15/93, 58 FR 4578
Washington Administrative Code, Chapter 173-433—Solid Fuel Burning Device Standards
173-433-010 | Purpose | 2/23/14 | 5/9/14, 79 FR 26628
173-433-020 | Applicability | 12/16/87 | 1/15/93, 58 FR 4578
173-433-030 | Definitions | 2/23/14 | 5/9/14, 79 FR 26628
173-433-100 | Emission Performance Standards | 2/23/14 | 5/9/14, 79 FR 26628
173-433-110 | Opacity Standards | 2/23/14 | 5/9/14, 79 FR 26628
173-433-120 | Prohibited Fuel Types | 2/23/14 | 5/9/14, 79 FR 26628
173-433-130 | General Emission Standards | 10/18/90 | 1/15/93, 58 FR 4578
173-433-140 | Criteria for Impaired Air Quality Burn Bans | 2/23/14 | 5/9/14, 79 FR 26628
173-433-150 | Restrictions on Operation of Solid Fuel Burning Devices | 2/23/14 | 5/9/14, 79 FR 26628
173-433-155 | Criteria for Prohibiting Solid Fuel Burning Devices That Are Not Certified | 2/23/14 | 5/9/14, 79 FR 26628
Washington Administrative Code, Chapter 173-434—Solid Waste Incinerator Facilities
173-434-010 | Purpose | 10/18/90 | 1/15/93, 58 FR 4578
173-434-020 | Applicability and Compliance | 1/22/04 | 8/4/05, 70 FR 44855
173-434-030 | Definitions | 1/22/04 | 8/4/05, 70 FR 44855
173-434-090 | Operation and Maintenance Plan | 10/18/90 | 1/15/93, 58 FR 4578
173-434-110 | Standards of Performance | 1/22/04 | 8/4/05, 70 FR 44855 | Except section (1)(a).
173-434-130 | Emission Standards | 1/22/04 | 8/4/05, 70 FR 44855 | Except section (2).
173-434-160 | Design and Operation | 1/22/04 | 8/4/05, 70 FR 44855
173-434-170 | Monitoring and Reporting | 1/22/04 | 8/4/05, 70 FR 44855
173-434-190 | Changes in Operation | 1/22/04 | 8/4/05, 70 FR 44855
173-434-200 | Emission Inventory | 1/22/04 | 8/4/05, 70 FR 44855
173-434-210 | Special Studies | 10/18/90 | 1/15/93, 58 FR 4578
Washington Administrative Code, Chapter 173-435—Emergency Episode Plan
173-435-010 | Purpose | 1/3/89 | 1/15/93, 58 FR 4578
173-435-015 | Significant Harm Levels | 1/3/89 | 1/15/93, 58 FR 4578
173-435-020 | Definitions | 1/3/89 | 1/15/93, 58 FR 4578
173-435-030 | Episode Stage Criteria | 1/3/89 | 1/15/93, 58 FR 4578
173-435-040 | Source Emission Reduction Plans | 1/3/89 | 1/15/93, 58 FR 4578
173-435-050 | Action Procedures | 1/3/89 | 1/15/93, 58 FR 4578
173-435-060 | Enforcement | 1/3/89 | 1/15/93, 58 FR 4578
173-435-070 | Sampling Sites, Equipment and Methods | 1/3/89 | 1/15/93, 58 FR 4578 | Except section (1).
Washington Administrative Code, Chapter 173-476—Ambient Air Quality Standards
173-476-010 | Purpose | 12/22/13 | 3/4/14, 79 FR 12077
173-476-020 | Applicability | 07/01/16 | 10/6/16, 81 FR 69386
173-476-030 | Definitions | 12/22/13 | 3/4/14, 79 FR 12077
173-476-100 | Ambient Air Quality Standard for PM-10 | 12/22/13 | 3/4/14, 79 FR 12077
173-476-110 | Ambient Air Quality Standards for PM-2.5 | 12/22/13 | 3/4/14, 79 FR 12077
173-476-120 | Ambient Air Quality Standard for Lead (Pb) | 12/22/13 | 3/4/14, 79 FR 12077
173-476-130 | Ambient Air Quality Standards for Sulfur Oxides (Sulfur Dioxide) | 12/22/13 | 3/4/14, 79 FR 12077
173-476-140 | Ambient Air Quality Standards for Nitrogen Oxides (Nitrogen Dioxide) | 12/22/13 | 3/4/14, 79 FR 12077
173-476-150 | Ambient Air Quality Standard for Ozone | 07/01/16 | 10/6/16, 81 FR 69386
173-476-160 | Ambient Air Quality Standards for Carbon Monoxide | 12/22/13 | 3/4/14, 79 FR 12077
173-476-170 | Monitor Siting Criteria | 12/22/13 | 3/4/14, 79 FR 12077
173-476-180 | Reference Conditions | 12/22/13 | 3/4/14, 79 FR 12077
173-476-900 | Table of Standards | 07/01/16 | 10/6/16, 81 FR 69386
Washington Administrative Code, Chapter 173-490—Emission Standards and Controls for Sources Emitting Volatile Organic Compounds
173-490-010 | Policy and Purpose | 3/22/91 | 7/12/93, 58 FR 37426
173-490-020 | Definitions | 3/22/91 | 7/12/93, 58 FR 37426
173-490-025 | General Applicability | 3/22/91 | 7/12/93, 58 FR 37426
173-490-030 | Registration and Reporting | 3/22/91 | 7/12/93, 58 FR 37426
173-490-040 | Requirements | 3/22/91 | 7/12/93, 58 FR 37426
173-490-080 | Exceptions and Alternative Methods | 3/22/91 | 7/12/93, 58 FR 37426
173-490-090 | New Source Review (NSR) | 3/22/91 | 7/12/93, 58 FR 37426
173-490-200 | Petroleum Refinery Equipment Leaks | 3/22/91 | 7/12/93, 58 FR 37426
173-490-201 | Petroleum Liquid Storage in External Floating Roof Tanks | 3/22/91 | 7/12/93, 58 FR 37426
173-490-202 | Leaks from Gasoline Transport Tanks and Vapor Collection System | 3/22/91 | 7/12/93, 58 FR 37426
173-490-203 | Perchloroethylene Dry Cleaning Systems | 3/22/91 | 7/12/93, 58 FR 37426
173-490-204 | Graphic Arts System | 3/22/91 | 7/12/93, 58 FR 37426
173-490-205 | Surface Coating of Miscellaneous Metal Parts and Products | 3/22/91 | 7/12/93, 58 FR 37426
173-490-207 | Surface Coating of Flatwood Paneling | 3/22/91 | 7/12/93, 58 FR 37426
173-490-208 | Aerospace Assembly and Component Coating Operations | 3/22/91 | 7/12/93, 58 FR 37426
Washington Administrative Code, Chapter 173-492—Motor Fuel Specifications for Oxygenated Gasoline
173-492-010 | Policy and Purpose | 10/19/96 | 4/30/97, 62 FR 23363
173-492-020 | Applicability | 12/1/92 | 4/30/97, 62 FR 23363
173-492-030 | Definitions | 12/1/92 | 4/30/97, 62 FR 23363
173-492-040 | Compliance Requirements | 12/1/92 | 4/30/97, 62 FR 23363
173-492-050 | Registration Requirements | 10/19/96 | 4/30/97, 62 FR 23363
173-492-060 | Labeling Requirements | 12/1/92 | 4/30/97, 62 FR 23363
173-492-070 | Control Areas and Control Periods | 10/19/96 | 4/30/97, 62 FR 23363
173-492-080 | Enforcement and Compliance | 12/1/92 | 4/30/97, 62 FR 23363
173-492-090 | Unplanned Conditions | 12/1/92 | 4/30/97, 62 FR 23363
173-492-100 | Severability | 12/1/92 | 4/30/97, 62 FR 23363

Table 2—Additional Regulations Approved for Washington Department of Ecology (Ecology) Direct Jurisdiction
[Applicable in Adams, Asotin, Chelan, Columbia, Douglas, Ferry, Franklin, Garfield, Grant, Kittitas, Klickitat, Lincoln, Okanogan, Pend Oreille, San Juan, Stevens, Walla Walla, and Whitman counties, excluding facilities subject to Energy Facilities Site Evaluation Council (EFSEC) jurisdiction, Indian reservations (excluding non-trust land within the exterior boundaries of the Puyallup Indian Reservation), and any other area where the EPA or an Indian tribe has demonstrated that a tribe has jurisdiction. These regulations also apply statewide for facilities subject to the applicability sections of WAC 173-400-700, 173-405-012, 173-410-012, and 173-415-012.]
State citation | Title/subject | State effective date | EPA approval date | Explanations
Washington Administrative Code, Chapter 173-400—General Regulations for Air Pollution Sources
173-400-010 | Policy and Purpose | 3/22/91 | 6/2/95, 60 FR 28726
173-400-020 | Applicability | 12/29/12 | 10/3/14, 79 FR 59653
173-400-025 | Adoption of Federal Rules | 9/16/18 | 2/24/20, 85 FR 10302
173-400-030 | Definitions | 9/16/18 | 2/24/20, 85 FR 10302 | Except: 173-400-030(6); 173-400-030(32); 173-400-030(38); 173-400-030(45); 173-400-030(83); 173-400-030(89); 173-400-030(96); 173-400-030(97); 173-400-030(100); 173-400-030(103); 173-400-030(104).
173-400-030 (30) and (36) | Definitions | 12/29/12 | 10/3/14, 79 FR 59653
173-400-036 | Relocation of Portable Sources | 12/29/12 | 4/29/15, 80 FR 23721
173-400-040 | General Standards for Maximum Emissions | 9/16/18 | 2/24/20, 85 FR 10302 | Except: 173-400-040(2); 173-400-040(3); 173-400-040(5).
173-400-040(2) | General Standards for Maximum Emissions | 07/01/16 | 10/6/16, 81 FR 69385 | Except: 173-400-040(2)(c); 173-400-040(2)(d).
173-400-050 | Emission Standards for Combustion and Incineration Units | 9/16/18 | 2/24/20, 85 FR 10302 | Except: 173-400-050(2); 173-400-050(4); 173-400-050(5); 173-400-050(6).
173-400-060 | Emission Standards for General Process Units | 11/25/18 | 2/24/20, 85 FR 10302
173-400-070 | Emission Standards for Certain Source Categories | 07/01/16 | 10/6/16, 81 FR 69386 | Except: 173-400-070(7); 173-400-070(8).
173-400-081 | Startup and Shutdown | 4/1/11 | 10/3/14, 79 FR 59653
173-400-091 | Voluntary Limits on Emissions | 4/1/11 | 10/3/14, 79 FR 59653 | 9/20/93 version continues to be approved under the authority of CAA Section 112(l) with respect to Section 112 hazardous air pollutants. See the Federal Register of June 2, 1995.
173-400-105 | Records, Monitoring, and Reporting | 11/25/18 | 2/24/20, 85 FR 10302
173-400-107 | Excess Emissions | 9/20/93 | 6/2/95, 60 FR 28726
173-400-110 | New Source Review (NSR) for Sources and Portable Sources | 12/29/12 | 9/29/16, 81 FR 66825 | Except: 173-400-110(1)(c)(ii)(C); 173-400-110(1)(e); 173-400-110(2)(d); The part of WAC 173-400-110(4)(b)(vi) that says, • “not for use with materials containing toxic air pollutants, as listed in chapter 173-460 WAC,”; The part of 400-110 (4)(e)(iii) that says, • “where toxic air pollutants as defined in chapter 173-460 WAC are not emitted”; The part of 400-110(4)(f)(i) that says, • “that are not toxic air pollutants listed in chapter 173-460 WAC”; The part of 400-110(4)(h)(xviii) that says, • “, to the extent that toxic air pollutant gases as defined in chapter 173-460 WAC are not emitted”; The part of 400-110(4)(h)(xxxiii) that says, • “where no toxic air pollutants as listed under chapter 173-460 WAC are emitted”; The part of 400-110(4)(h)(xxxiv) that says, • “, or ≤1% (by weight) toxic air pollutants as listed in chapter 173-460 WAC”; The part of 400-110(4)(h)(xxxv) that says, • “or ≤1% (by weight) toxic air pollutants”; The part of 400-110(4)(h)(xxxvi) that says, • “or ≤1% (by weight) toxic air pollutants as listed in chapter 173-460 WAC”; 400-110(4)(h)(xl), second sentence; The last row of the table in 173-400-110(5)(b) regarding exemption levels for Toxic Air Pollutants.
173-400-111 | Processing Notice of Construction Applications for Sources, Stationary Sources and Portable Sources | 07/01/16 | 10/6/16, 81 FR 69386 | Except: 173-400-111(3)(h); The part of 173-400-111(8)(a)(v) that says, • “and 173-460-040,”; 173-400-111(9).
173-400-112 | Requirements for New Sources in Nonattainment Areas—Review for Compliance with Regulations | 12/29/12 | 9/29/16, 81 FR 66825
173-400-113 | New Sources in Attainment or Unclassifiable Areas—Review for Compliance with Regulations | 12/29/12 | 4/29/15, 80 FR 23721 | Except: 173-400-113(3), second sentence.
173-400-116 | Increment Protection | 07/01/16 | 10/6/16, 81 FR 69386
173-400-117 | Special Protection Requirements for Federal Class I Areas | 12/29/12 | 4/29/15, 80 FR 23721
173-400-118 | Designation of Class I, II, and III Areas | 12/29/12 | 10/3/14, 79 FR 59653
173-400-131 | Issuance of Emission Reduction Credits | 4/1/11 | 11/7/14, 79 FR 66291
173-400-136 | Use of Emission Reduction Credits (ERC) | 12/29/12 | 11/7/14, 79 FR 66291
173-400-151 | Retrofit Requirements for Visibility Protection | 2/10/05 | 10/3/14, 79 FR 59653
173-400-161 | Compliance Schedules | 3/22/91 | 6/2/95, 60 FR 28726
173-400-171 | Public Notice and Opportunity for Public Comment | 9/16/18 | 2/24/20, 85 FR 10302 | Except: The part of 173-400-171(3)(b) that says, • “or any increase in emissions of a toxic air pollutant above the acceptable source impact level for that toxic air pollutant as regulated under chapter 173-460 WAC”; 173-400-171(3)(o); 173-400-171(12).
173-400-175 | Public Information | 2/10/05 | 10/3/14, 79 FR 59653
173-400-190 | Requirements for Nonattainment Areas | 3/22/91 | 6/2/95, 60 FR 28726
173-400-200 | Creditable Stack Height and Dispersion Techniques | 2/10/05 | 10/3/14, 79 FR 59653
173-400-205 | Adjustment for Atmospheric Conditions | 3/22/91 | 6/2/95, 60 FR 28726
173-400-210 | Emission Requirements of Prior Jurisdictions | 3/22/91 | 6/2/95, 60 FR 28726
173-400-560 | General Order of Approval | 12/29/12 | 4/29/15, 80 FR 23721 | Except: The part of 173-400-560(1)(f) that says, “173-460 WAC”.
173-400-700 | Review of Major Stationary Sources of Air Pollution | 4/1/11 | 4/29/15, 80 FR 23721
173-400-710 | Definitions | 07/01/16 | 10/6/16, 81 FR 69386
173-400-720 | Prevention of Significant Deterioration (PSD) | 07/01/16 | 10/6/16, 81 FR 69386 | Except: 173-400-720(4)(a)(i through iv) and 173-400-720(4)(b)(iii)(C).
173-400-730 | Prevention of Significant Deterioration Application Processing Procedures | 07/01/16 | 10/6/16, 81 FR 69386
173-400-740 | PSD Permitting Public Involvement Requirements | 9/16/18 | 2/24/20, 85 FR 10302
173-400-750 | Revisions to PSD Permits | 12/29/12 | 4/29/15, 80 FR 23721 | Except: 173-400-750(2) second sentence.
173-400-800 | Major Stationary Source and Major Modification in a Nonattainment Area | 4/1/11 | 11/7/14, 79 FR 66291
173-400-810 | Major Stationary Source and Major Modification Definitions | 07/01/16 | 10/6/16, 81 FR 69386
173-400-820 | Determining if a New Stationary Source or Modification to a Stationary Source is Subject to these Requirements | 12/29/12 | 11/7/14, 79 FR 66291
173-400-830 | Permitting Requirements | 07/01/16 | 10/6/16, 81 FR 69386
173-400-840 | Emission Offset Requirements | 07/01/16 | 10/6/16, 81 FR 69386
173-400-850 | Actual Emissions Plantwide Applicability Limitation (PAL) | 07/01/16 | 10/6/16, 81 FR 69386
173-400-860 | Public Involvement Procedures | 4/1/11 | 11/7/14, 79 FR 66291

Table 3—Additional Regulations Approved for the Energy Facilities Site Evaluation Council (EFSEC) Jurisdiction
[See the SIP-approved provisions of WAC 463-78-020 for jurisdictional applicability.]
State citation | Title/subject | State effective date | EPA approval date | Explanations
Washington Administrative Code, Chapter 463-78—General and Operating Permit Regulations for Air Pollution Sources
78-005 | Adoption by Reference | 8/26/19 | 1/24/20, 85 FR 4235 | Subsection (1) only. See this table 3 for the updated Chapter 173-400 WAC provisions adopted by reference and submitted to the EPA for approval.
78-010 | Purpose | 8/27/15 | 5/30/17, 82 FR 24533
78-020 | Applicability | 11/11/04 | 5/30/17, 82 FR 24533
78-030 | Additional Definitions | 8/27/15 | 5/30/17, 82 FR 24533 | Except references to 173-401-200 and 173-406-101.
78-095 | Permit Issuance | 8/27/15 | 5/30/17, 82 FR 24533
78-120 | Monitoring and Special Report | 11/11/04 | 5/30/17, 82 FR 24533
Washington Administrative Code, Chapter 173-400 Regulations Incorporated by Reference in WAC 463-78-005
173-400-025 | Adoption of Federal Rules | 9/16/18 | 1/24/20, 85 FR 4235
173-400-030 | Definitions | 9/16/18 | 1/24/20, 85 FR 4235 | Except: 173-400-030(6); 173-400-030(32); 173-400-030(38); 173-400-030(45); 173-400-030(83); 173-400-030(89); 173-400-030(96); 173-400-030(97); 173-400-030(100); 173-400-030(103); 173-400-030(104).
173-400-030(30) & (36) | Definitions | 12/29/12 | 5/30/17, 82 FR 24533
173-400-036 | Relocation of Portable Sources | 12/29/12 | 5/30/17, 82 FR 24533
173-400-040 | General Standards for Maximum Emissions | 9/16/18 | 1/24/20, 85 FR 4235 | Except: 173-400-040(2); 173-400-040(3); 173-400-040(5).
173-400-040(2) | General Standards for Maximum Emissions | 4/1/11 | 5/30/17, 82 FR 24533 | Except: 173-400-040(2)(c); 173-400-040(2)(d).
173-400-050 | Emission Standards for Combustion and Incineration Units | 9/16/18 | 1/24/20, 85 FR 4235 | Except: 173-400-050(2); 173-400-050(4); 173-400-050(5); 173-400-050(6).
173-400-060 | Emission Standards for General Process Units | 11/25/18 | 1/24/20, 85 FR 4235
173-400-070 | Emission Standards for Certain Source Categories | 12/29/12 | 5/30/17, 82 FR 24533 | Except: 173-400-070(1); 173-400-070(2); 173-400-070(3); 173-400-070(4); 173-400-070(6); 173-400-070(7); 173-400-070(8).
173-400-081 | Startup and Shutdown | 4/1/11 | 5/30/17, 82 FR 24533
173-400-091 | Voluntary Limits on Emissions | 4/1/11 | 5/30/17, 82 FR 24533
173-400-105 | Records, Monitoring, and Reporting | 11/25/18 | 1/24/20, 85 FR 4235
173-400-107 | Excess Emissions | 9/20/93 | 6/2/95, 60 FR 28726
173-400-110 | New Source Review (NSR) for Sources and Portable Sources | 12/29/12 | 5/30/17, 82 FR 24533 | Except: 173-400-110(1)(c)(ii)(C); 173-400-110(1)(e); 173-400-110(2)(d); The part of WAC 173-400-110(4)(b)(vi) that says, “not for use with materials containing toxic air pollutants, as listed in chapter 173-460 WAC,”; The part of 400-110 (4)(e)(iii) that says, “where toxic air pollutants as defined in chapter 173-460 WAC are not emitted”; The part of 400-110(4)(f)(i) that says, “that are not toxic air pollutants listed in chapter 173-460 WAC”; The part of 400-110 (4)(h)(xviii) that says, “, to the extent that toxic air pollutant gases as defined in chapter 173-460 WAC are not emitted”; The part of 400-110 (4)(h)(xxxiii) that says, “where no toxic air pollutants as listed under chapter 173-460 WAC are emitted”; The part of 400-110(4)(h)(xxxiv) that says, “, or ≤1% (by weight) toxic air pollutants as listed in chapter 173-460 WAC”; The part of 400-110(4)(h)(xxxv) that says, “or ≤1% (by weight) toxic air pollutants”; The part of 400-110(4)(h)(xxxvi) that says, “or ≤1% (by weight) toxic air pollutants as listed in chapter 173-460 WAC”; 400-110(4)(h)(xl), second sentence; The last row of the table in 173-400-110(5)(b) regarding exemption levels for Toxic Air Pollutants.
173-400-111 | Processing Notice of Construction Applications for Sources, Stationary Sources and Portable Sources | 07/01/16 | 1/24/20, 85 FR 4235 | Except: 173-400-111(3)(h); The part of 173-400-111(8)(a)(v) that says, • “and 173-460-040,”; 173-400-111(9).
173-400-112 | Requirements for New Sources in Nonattainment Areas—Review for Compliance with Regulations | 12/29/12 | 5/30/17, 82 FR 24533
173-400-113 | New Sources in Attainment or Unclassifiable Areas—Review for Compliance with Regulations | 12/29/12 | 5/30/17, 82 FR 24533 | Except: 173-400-113(3), second sentence.
173-400-116 | Increment Protection | 07/01/16 | 1/24/20, 85 FR 4235
173-400-117 | Special Protection Requirements for Federal Class I Areas | 12/29/12 | 5/30/17, 82 FR 24533
173-400-131 | Issuance of Emission Reduction Credits | 4/1/11 | 5/30/17, 82 FR 24533
173-400-136 | Use of Emission Reduction Credits (ERC) | 4/1/11 | 5/30/17, 82 FR 24533
173-400-161 | Compliance Schedules | 3/22/91 | 6/2/95, 60 FR 28726
173-400-171 | Public Notice and Opportunity for Public Comment | 9/16/18 | 1/24/20, 85 FR 4235 | Except: The part of 173-400-171(3)(b) that says, • “or any increase in emissions of a toxic air pollutant above the acceptable source impact level for that toxic air pollutant as regulated under chapter 173-460 WAC”; 173-400-171(3)(o); 173-400-171(12).
173-400-175 | Public Information | 2/10/05 | 5/30/17, 82 FR 24533
173-400-190 | Requirements for Nonattainment Areas | 3/22/91 | 6/2/95, 60 FR 28726
173-400-200 | Creditable Stack Height and Dispersion Techniques | 2/10/05 | 5/30/17, 82 FR 24533
173-400-205 | Adjustment for Atmospheric Conditions | 3/22/91 | 6/2/95, 60 FR 28726
173-400-700 | Review of Major Stationary Sources of Air Pollution | 4/1/11 | 5/30/17, 82 FR 24533
173-400-710 | Definitions | 07/01/16 | 1/24/20, 85 FR 4235
173-400-720 | Prevention of Significant Deterioration (PSD) | 07/01/16 | 1/24/20, 85 FR 4235 | Except: 173-400-720(4)(a)(i through iv) and 173-400-720(4)(b)(iii)(C).
173-400-730 | Prevention of Significant Deterioration Application Processing Procedures | 07/01/16 | 1/24/20, 85 FR 4235
173-400-740 | PSD Permitting Public Involvement Requirements | 9/16/18 | 1/24/20, 85 FR 4235
173-400-750 | Revisions to PSD Permits | 12/29/12 | 5/30/17, 82 FR 24533 | Except: 173-400-750(2) second sentence.
173-400-800 | Major Stationary Source and Major Modification in a Nonattainment Area | 4/1/11 | 5/30/17, 82 FR 24533
173-400-810 | Major Stationary Source and Major Modification Definitions | 07/01/16 | 1/24/20, 85 FR 4235
173-400-820 | Determining if a New Stationary Source or Modification to a Stationary Source is Subject to these Requirements | 12/29/12 | 5/30/17, 82 FR 24533
173-400-830 | Permitting Requirements | 07/01/16 | 1/24/20, 85 FR 4235
173-400-840 | Emission Offset Requirements | 07/01/16 | 1/24/20, 85 FR 4235
173-400-850 | Actual Emissions Plantwide Applicability Limitation (PAL) | 07/01/16 | 1/24/20, 85 FR 4235
173-400-860 | Public Involvement Procedures | 4/1/11 | 5/30/17, 82 FR 24533

Table 4—Additional Regulations Approved for the Benton Clean Air Agency (BCAA) Jurisdiction
[Applicable in Benton County, excluding facilities subject to Energy Facilities Site Evaluation Council (EFSEC) jurisdiction, Indian reservations and any other area where the EPA or an Indian tribe has demonstrated that a tribe has jurisdiction, and facilities subject to the applicability sections of WAC 173-400-700, 173-405-012, ;173-410-012, and 173-415-012.]
State/local citation | Title/subject | State/local effective date | EPA approval date | Explanations
Benton Clean Air Agency (BCAA) Regulations
Regulation 1
1.01 | Name of Agency | 12/11/14 | 11/17/15, 80 FR 71695
1.02 | Policy and Purpose | 12/11/14 | 11/17/15, 80 FR 71695 | Replaces WAC 173-400-010.
1.03 | Applicability | 12/11/14 | 11/17/15, 80 FR 71695 | Replaces WAC 173-400-020.
4.01(A) | Definitions—Fugitive Dust | 12/11/14 | 2/24/20, 85 FR 10302 | Replaces WAC 173-400-030(40).
4.01(B) | Definitions—Fugitive Emissions | 12/11/14 | 2/24/20, 85 FR 10302 | Replaces WAC 173-400-030(41).
4.02(B) | Particulate Matter Emissions—Fugitive Emissions | 12/11/14 | 11/17/15, 80 FR 71695 | Replaces WAC 173-400-040(4).
4.02(C)(1) | Particulate Matter Emissions—Fugitive Dust | 12/11/14 | 11/17/15, 80 FR 71695 | Replaces WAC 173-400-040(9)(a).
4.02(C)(3) | Particulate Matter Emissions—Fugitive Dust | 12/11/14 | 11/17/15, 80 FR 71695 | Replaces WAC 173-400-040(9)(b).
Washington Department of Ecology Regulations
Washington Administrative Code, Chapter 173-400—General Regulations for Air Pollution Sources
173-400-025 | Adoption of Federal Rules | 9/16/18 | 2/24/20, 85 FR 10302
173-400-030 | Definitions | 9/16/18 | 2/24/20, 85 FR 10302 | Except: 173-400-030(6); 173-400-030(32); 173-400-030(38); 173-400-030(40); 173-400-030(41); 173-400-030(45); 173-400-030(83); 173-400-030(89); 173-400-030(96); 173-400-030(97); 173-400-030(100); 173-400-030(103); 173-400-030(104).
173-400-030 (30) and (36) | Definitions | 12/29/12 | 10/3/14, 79 FR 59653
173-400-036 | Relocation of Portable Sources | 12/29/12 | 11/17/15, 80 FR 71695
173-400-040 | General Standards for Maximum Emissions | 9/16/18 | 2/24/20, 85 FR 10302 | Except: 173-400-040(2); 173-400-040(3); 173-400-040(4); 173-400-040(5); 173-400-040(9).
173-400-040(2) | General Standards for Maximum Emissions | 07/01/16 | 10/6/16, 81 FR 69385 | Except: 173-400-040(2)(c); 173-400-040(2)(d).
173-400-050 | Emission Standards for Combustion and Incineration Units | 9/16/18 | 2/24/20, 85 FR 10302 | Except: 173-400-050(2); 173-400-050(4); 173-400-050(5); 173-400-050(6).
173-400-060 | Emission Standards for General Process Units | 11/25/18 | 2/24/20, 85 FR 10302
173-400-070 | Emission Standards for Certain Source Categories | 07/01/16 | 10/6/16, 81 FR 69386 | Except: 173-400-070(7); 173-400-070(8).
173-400-081 | Startup and Shutdown | 4/1/11 | 11/17/15, 80 FR 71695
173-400-091 | Voluntary Limits on Emissions | 4/1/11 | 11/17/15, 80 FR 71695
173-400-105 | Records, Monitoring and Reporting | 11/25/18 | 2/24/20, 85 FR 10302
173-400-107 | Excess Emissions | 9/20/93 | 6/2/95, 60 FR 28726
173-400-110 | New Source Review (NSR) for Sources and Portable Sources | 12/29/12 | 9/29/16, 81 FR 66825 | Except: 173-400-110(1)(c)(ii)(C); 173-400-110(1)(e); 173-400-110(2)(d); —The part of WAC 173-400-110(4)(b)(vi) that says, “not for use with materials containing toxic air pollutants, as listed in chapter 173-460 WAC,”; —The part of 400-110(4)(e)(iii) that says, “where toxic air pollutants as defined in chapter 173-460 WAC are not emitted”; The part of 400-110(4)(f)(i) that says, “that are not toxic air pollutants listed in chapter 173-460 WAC”; —The part of 400-110(4)(h)(xviii) that says, “, to the extent that toxic air pollutant gases as defined in chapter 173-460 WAC are not emitted”; —The part of 400-110(4)(h)(xxxiii) that says, “where no toxic air pollutants as listed under chapter 173-460 WAC are emitted”; —The part of 400-110(4)(h)(xxxiv) that says, “or ≤1% (by weight) toxic air pollutants as listed in chapter 173-460 WAC”; The part of 400-110(4)(h)(xxxv) that says, “or ≤1% (by weight) toxic air pollutants”; —The part of 400-110(4)(h)(xxxvi) that says, “or ≤1% (by weight) toxic air pollutants as listed in chapter 173-460 WAC”; 400-110(4)(h)(xl), second sentence; —The last row of the table in 173-400-110(5)(b) regarding exemption levels for Toxic Air Pollutants.
173-400-111 | Processing Notice of Construction Applications for Sources, Stationary Sources and Portable Sources | 07/01/16 | 10/6/16, 81 FR 69386 | Except: 173-400-111(3)(h); —The part of 173-400-111(8)(a)(v) that says, “and 173-460-040,”; 173-400-111(9).
173-400-112 | Requirements for New Sources in Nonattainment Areas—Review for Compliance with Regulations | 12/29/12 | 9/29/16, 81 FR 66825
173-400-113 | New Sources in Attainment or Unclassifiable Areas—Review for Compliance with Regulations | 12/29/12 | 11/17/15, 80 FR 71695 | Except: 173-400-113(3), second sentence.
173-400-117 | Special Protection Requirements for Federal Class I Areas | 12/29/12 | 11/17/15, 80 FR 71695 | Except facilities subject to the applicability provisions of WAC 173-400-700.
173-400-118 | Designation of Class I, II, and III Areas | 12/29/12 | 11/17/15, 80 FR 71695
173-400-131 | Issuance of Emission Reduction Credits | 4/1/11 | 11/17/15, 80 FR 71695
173-400-136 | Use of Emission Reduction Credits (ERC) | 12/29/12 | 11/17/15, 80 FR 71695
173-400-151 | Retrofit Requirements for Visibility Protection | 2/10/05 | 11/17/15, 80 FR 71695
173-400-161 | Compliance Schedules | 3/22/91 | 6/2/95, 60 FR 28726
173-400-171 | Public Notice and Opportunity for Public Comment | 9/16/18 | 2/24/20, 85 FR 10302 | Except: — The part of 173-400-171(3)(b) that says, “or any increase in emissions of a toxic air pollutant above the acceptable source impact level for that toxic air pollutant as regulated under chapter 173-460 WAC”; 173-400-171(3)(o); 173-400-171(12).
173-400-175 | Public Information | 2/10/05 | 11/17/15, 80 FR 71695
173-400-190 | Requirements for Nonattainment Areas | 3/22/91 | 6/2/95, 60 FR 28726
173-400-200 | Creditable Stack Height & Dispersion Techniques | 2/10/05 | 11/17/15, 80 FR 71695
173-400-205 | Adjustment for Atmospheric Conditions | 3/22/91 | 6/2/95, 60 FR 28726
173-400-210 | Emission Requirements of Prior Jurisdictions | 3/22/91 | 6/2/95, 60 FR 28726
173-400-560 | General Order of Approval | 12/29/12 | 11/17/15, 80 FR 71695 | Except: — The part of 173-400-560(1)(f) that says, “173-460 WAC”.
173-400-800 | Major Stationary Source and Major Modification in a Nonattainment Area | 4/1/11 | 11/17/15, 80 FR 71695
173-400-810 | Major Stationary Source and Major Modification Definitions | 07/01/16 | 10/6/16, 81 FR 69386
173-400-820 | Determining if a New Stationary Source or Modification to a Stationary Source is Subject to these Requirements | 12/29/12 | 11/17/15, 80 FR 71695
173-400-830 | Permitting Requirements | 07/01/16 | 10/6/16, 81 FR 69386
173-400-840 | Emission Offset Requirements | 07/01/16 | 10/6/16, 81 FR 69386
173-400-850 | Actual Emissions Plantwide Applicability Limitation (PAL) | 07/01/16 | 10/6/16, 81 FR 69386
173-400-860 | Public Involvement Procedures | 4/1/11 | 11/17/15, 80 FR 71695

Table 5—Additional Regulations Approved for the Northwest Clean Air Agency (NWCAA) Jurisdiction
[Applicable in Island, Skagit and Whatcom counties, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Northwest Clean Air Agency Regulations
General Provisions
100 | Name of Agency | 8/21/05 | 6/15/20, 85 FR 36156
101 | Short Title | 8/21/05 | 6/15/20, 85 FR 36156
102 | Policy | 8/21/05 | 6/15/20, 85 FR 36156 | Except provisions outside the scope of CAA section 110. Replaces WAC 173-400-010.
121 | Orders | 9/8/93 | 2/22/95, 60 FR 9778
150 | Pollutant Disclosure—Reporting by Air Containment Sources | 9/8/93 | 2/22/95, 60 FR 9778
180 | Sampling and Analytical Methods/References | 9/8/93 | 2/22/95, 60 FR 9778
Definitions
200 | Definitions | 5/12/19 | 6/15/20, 85 FR 36156 | Except the definitions Toxic Air Pollutant, Odor, and Odor Source. Generally replaces WAC 173-400-030. However, for definitions not included in section 200, the WAC 173-400-030 definitions in this table 5 shall apply.
Control Procedures
300 | New Source Review | 5/12/19 | 6/15/20, 85 FR 36156 | Except subsections 300.8(C), 300.25, or any provisions related to the regulation of Toxic Air Pollutants. Replaces WAC 173-400-036, 173-400-110, 173-400-111, 173-400-113, and 173-400-560, except certain subsections of WAC 173-400-111 and 173-400-113 listed in this table 5.
305 | Public Involvement | 5/12/19 | 6/15/20, 85 FR 36156 | Except provisions related to the regulation of Toxic Air Pollutants. Replaces WAC 173-400-171 and WAC 173-400-175, except subsection 173-400-171(6)(b).
320 | Registration Program | 5/12/19 | 6/15/20, 85 FR 36156 | Except subsection 320.3 and provisions related to the regulation of Toxic Air Pollutants or odor.
321 | Exemptions from Registration | 5/12/19 | 6/15/20, 85 FR 36156 | Except subsection 321.3.
324 | Fees | 11/13/94 | 10/24/95, 60 FR 54439 | Except section 324.121.
325 | Transfer | 9/8/93 | 2/22/95, 60 FR 9778
340 | Report of Breakdown and Upset | 11/13/94 | 10/24/95, 60 FR 54439
341 | Schedule Report of Shutdown or Start-Up | 9/8/93 | 2/22/95, 60 FR 9778
342 | Operation and Maintenance | 9/8/93 | 2/22/95, 60 FR 9778
360 | Testing and Sampling | 9/8/93 | 2/22/95, 60 FR 9778
365 | Monitoring | 9/8/93 | 2/22/95, 60 FR 9778
366 | Instrument Calibration | 9/8/93 | 2/22/95, 60 FR 9778
Standards
450 | Emission Standards—Forward | 9/8/93 | 2/22/95, 60 FR 9778
451 | Emission of Air Contaminant—Visual Standards | 11/13/94 | 10/24/95, 60 FR 54439
452 | Motor Vehicle Visual Standards | 9/8/93 | 2/22/95, 60 FR 9778 | Except section 452.5.
455 | Emission of Particulate Matter | 9/8/93 | 2/22/95, 60 FR 9778
458 | Incinerators—Wood Waste Burners | 9/8/93 | 2/22/95, 60 FR 9778
460 | Weight/Heat Rate Standard—Emission of Sulfur Compounds | 9/8/93 | 2/22/95, 60 FR 9778
462 | Emission of Sulfur Compounds | 11/13/94 | 10/24/95, 60 FR 54439
466 | Portland Cement Plants | 9/8/93 | 2/22/95, 60 FR 9778
Regulated Activities and Prohibitions
510 | Incinerator Burning | 9/8/93 | 2/22/95, 60 FR 9778
520 | Sulfur Compounds in Fuel | 9/8/93 | 2/22/95, 60 FR 9778
550 | Particulate Matter from Becoming Airborne | 9/8/93 | 2/22/95, 60 FR 9778
560 | Storage of Organic Liquids | 9/8/93 | 2/22/95, 60 FR 9778
580 | Volatile Organic Compound Control (VOC) | 11/13/94 | 10/24/95, 60 FR 54439
Washington Department of Ecology Regulations
Washington Administrative Code, Chapter 173-400—General Regulations for Air Pollution Sources
173-400-020 | Applicability | 12/29/12 | 6/15/20, 85 FR 36156
173-400-025 | Adoption of Federal Rules | 9/16/18 | 6/15/20, 85 FR 36156 | Only as it applies to cross references in the WAC.
173-400-030 | Definitions | 9/16/18 | 6/15/20, 85 FR 36156 | Except: 173-400-030(6); 173-400-030(32); 173-400-030(38); 173-400-030(45); 173-400-030(83); 173-400-030(89); 173-400-030(96); 173-400-030(97); 173-400-030(100); 173-400-030(103); 173-400-030(104); or any definition included in NWCAA section 200.
173-400-040 | General Standards for Maximum Emissions | 3/22/91 | 6/2/95, 60 FR 28726 | Except (1)(c), and (1)(d), (2), (4), and the 2nd paragraph of (6).
173-400-050 | Emission Standards for Combustion and Incineration Units | 9/16/18 | 6/15/20, 85 FR 36156 | Except: 173-400-050(2); 173-400-050(4); 173-400-050(5); 173-400-050(6).
173-400-060 | Emission Standards for General Process Units | 11/25/18 | 6/15/20, 85 FR 36156
173-400-070 | Emission Standards for Certain Source Categories | 3/22/91 | 6/2/95, 60 FR 28726 | Except (7).
173-400-081 | Startup and Shutdown | 9/20/93 | 6/2/95, 60 FR 28726
173-400-091 | Voluntary Limits on Emissions | 4/1/11 | 6/15/20, 85 FR 36156 | 9/20/93 version continues to be approved under the authority of CAA Section 112(l) with respect to Section 112 hazardous air pollutants. See the Federal Register of June 2, 1995.
173-400-105 | Records, Monitoring and Reporting | 9/20/93 | 6/2/95, 60 FR 28726
173-400-107 | Excess Emissions | 9/20/93 | 6/2/95, 60 FR 28726
173-400-111 | Processing Notice of Construction Applications for Sources, Stationary Sources and Portable Sources | 7/1/16 | 6/15/20, 85 FR 36156 | Only subsections (1)(c), (1)(d), (5)(b), and (7)(b), otherwise NWCAA section 300 applies.
173-400-112 | Requirements for New Sources in Nonattainment Areas—Review for Compliance with Regulations | 12/29/12 | 6/15/20, 85 FR 36156 | The cross reference to WAC 173-400-113(3) is interpreted to be NWCAA section 300.9(B)(3).
173-400-113 | New Sources in Attainment or Unclassifiable Areas—Review for Compliance with Regulations | 12/29/12 | 6/15/20, 85 FR 36156 | Only subsection (4), otherwise NWCAA section 300 applies.
173-400-117 | Special Protection Requirements for Federal Class I Areas | 12/29/12 | 6/15/20, 85 FR 36156
173-400-118 | Designation of Class I, II, and III Areas | 12/29/12 | 6/15/20, 85 FR 36156
173-400-131 | Issuance of Emission Reduction Credits | 4/1/11 | 6/15/20, 85 FR 36156
173-400-136 | Use of Emission Reduction Credits (ERC) | 4/1/11 | 6/15/20, 85 FR 36156
173-400-151 | Retrofit Requirements for Visibility Protection | 2/10/05 | 6/15/20, 85 FR 36156
173-400-161 | Compliance Schedules | 3/22/91 | 6/2/95, 60 FR 28726
173-400-171 | Public Notice and Opportunity for Public Comment | 9/16/18 | 6/15/20, 85 FR 36156 | Only subsection (6)(b), otherwise NWCAA section 305 applies.
173-400-190 | Requirements for Nonattainment Areas | 3/22/91 | 6/2/95, 60 FR 28726
173-400-200 | Creditable Stack Height and Dispersion Techniques | 2/10/05 | 6/15/20, 85 FR 36156
173-400-205 | Adjustment for Atmospheric Conditions | 3/22/91 | 6/2/95, 60 FR 28726
173-400-210 | Emission Requirements of Prior Jurisdictions | 3/22/91 | 6/2/95, 60 FR 28726
173-400-800 | Major Stationary Source and Major Modification in a Nonattainment Area | 4/1/11 | 6/15/20, 85 FR 36156 | EPA did not review WAC 173-400-800 through 860 for consistency with the August 24, 2016 PM2.5 implementation rule (see the Federal Register of August 24, 2016); nor does NWCAA have an obligation to submit rule revisions to address the 2016 PM2.5 implementation rule at this time.
173-400-810 | Major Stationary Source and Major Modification Definitions | 7/1/16 | 6/15/20, 85 FR 36156
173-400-820 | Determining if a New Stationary Source or Modification to a Stationary Source is Subject to these Requirements | 12/29/12 | 6/15/20, 85 FR 36156
173-400-830 | Permitting Requirements | 7/1/16 | 6/15/20, 85 FR 36156
173-400-840 | Emission Offset Requirements | 7/1/16 | 6/15/20, 85 FR 36156
173-400-850 | Actual Emissions Plantwide Applicability Limitation (PAL) | 7/1/16 | 6/15/20, 85 FR 36156
173-400-860 | Public Involvement Procedures | 4/1/11 | 6/15/20, 85 FR 36156

Table 6—Additional Regulations Approved for the Olympic Region Clean Air Agency (ORCAA) Jurisdiction
[Applicable in Clallam, Grays Harbor, Jefferson, Mason, Pacific, and Thurston counties, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012.]
State/local citation | Title/subject | State/local effective date | EPA approval date | Explanations
Olympic Region Clean Air Agency Regulations
Rule 6.2 Outdoor Burning
6.2.3 | No Residential or Land Clearing Burning | 2/4/12 | 10/3/13, 78 FR 61188 | Only as it applies to the cities of Olympia, Lacey, and Tumwater.
6.2.6 | Curtailment | 3/18/11 | 10/3/13, 78 FR 61188
6.2.7 | Recreational Burning | 3/18/11 | 10/3/13, 78 FR 61188
Rule 8.1 Wood Heating
8.1.1 | Definitions | 5/22/10 | 10/3/13, 78 FR 61188
8.1.2 (b) and (c) | General Emission Standards | 5/22/10 | 10/3/13, 78 FR 61188
8.1.3 | Prohibited Fuel Types | 5/22/10 | 10/3/13, 78 FR 61188
8.1.4 | Curtailment | 5/22/10 | 10/3/13, 78 FR 61188
8.1.5 | Exceptions | 5/22/10 | 10/3/13, 78 FR 61188
8.1.7 | Sale and Installation of Uncertified Woodstoves | 5/22/10 | 10/3/13, 78 FR 61188
8.1.8 | Disposal of Uncertified Woodstoves | 5/22/10 | 10/3/13, 78 FR 61188
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726
173-400-070 | Emission Standards for Certain Source Categories | 3/22/91 | 6/2/95, 60 FR 28726 | Except (7).
173-400-081 | Startup and Shutdown | 9/20/93 | 6/2/95, 60 FR 28726
173-400-091 | Voluntary Limits on Emissions | 9/20/93 | 6/2/95, 60 FR 28726 | 9/20/93 version continues to be approved under the authority of CAA Section 112(l) with respect to Section 112 hazardous air pollutants. See the Federal Register of June 2, 1995.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726

Table 7—Additional Regulations Approved for the Puget Sound Clean Air Agency (PSCAA) Jurisdiction
[Applicable in King, Kitsap, Pierce and Snohomish counties, excluding facilities subject to Energy Facilities Site Evaluation Council (EFSEC) jurisdiction; facilities subject to the Washington Department of Ecology's direct jurisdiction under Chapters 173-405, 173-410, and 173-415 Washington Administrative Code (WAC); Indian reservations (excluding non-trust land within the exterior boundaries of the Puyallup Indian Reservation); any other area where the EPA or an Indian tribe has demonstrated that a tribe has jurisdiction; and the Prevention of Significant Deterioration (PSD) permitting of facilities subject to the applicability sections of WAC 173-400-700.]
State/local citation | Title/subject | State/local effective date | EPA approval date | Explanations
Puget Sound Clean Air Agency Regulations
Regulation I—Article 1: Policy, Short Title, and Definitions
1.01 | Policy | 11/01/99 | 4/22/20, 85 FR 22357 | Replaces WAC 173-400-010.
1.03 | Name of Agency | 11/01/99 | 8/31/04, 69 FR 53007
1.05 | Short Title | 11/01/99 | 8/31/04, 69 FR 53007
1.07 | Definitions | 12/01/18 | 4/22/20, 85 FR 22357 | Except the definition “toxic air pollutant (TAP) or toxic air contaminant.”
Regulation I—Article 3: General Provisions
3.03(f) | General Regulatory Orders | 02/01/12 | 4/22/20, 85 FR 22357
3.04 | Reasonably Available Control Technology | 07/01/12 | 4/22/20, 85 FR 22357 | Except 3.04(e). Replaces WAC 173-400-040(1)(c).
3.06 | Credible Evidence | 11/14/98 | 8/31/04, 69 FR 53007
3.25 | Federal Regulation Reference Date | 11/01/19 | 4/22/20, 85 FR 22357 | Replaces WAC 173-400-025.
Regulation I—Article 5: Registration
5.03 | Applicability of Registration Program | 11/01/16 | 4/22/20, 85 FR 22357 | Except 5.03(a)(8)(Q) and 5.03(b)(5).
5.05 | Registration Requirements | 02/01/17 | 4/22/20, 85 FR 22357 | Except 5.05(b)(1) and (2).
Regulation I—Article 6: New Source Review
6.01 | Components of New Source Review Program | 8/01/18 | 4/22/20, 85 FR 22357 | Except the parenthetical in 6.01(b) which states “as delegated by agreement with the US Environmental Protection Agency, Region 10.” See subheading in this table 7 for revised Chapter 173-400 WAC provisions incorporated by reference.
6.03 | Notice of Construction | 11/01/15 | 4/22/20, 85 FR 22357 | Except 6.03(b)(10). Section 6.03 replaces WAC 173-400-110, except WAC 173-400-110(1)(c)(i) and (1)(d) which are incorporated by reference.
6.09 | Notice of Completion | 05/01/04 | 4/22/20, 85 FR 22357
6.10 | Work Done without an Approval | 09/01/01 | 4/22/20, 85 FR 22357
Regulation I—Article 7: Operating Permits
7.09 | General Reporting Requirements for Operating Permits | 02/01/17 | 4/22/20, 85 FR 22357 | Excluding toxic air pollutants.
Regulation I—Article 8: Outdoor Burning
8.04 | General Conditions for Outdoor Burning | 01/01/01 | 8/31/04, 69 FR 53007
8.05 | Agricultural Burning | 01/01/01 | 8/31/04, 69 FR 53007
8.06 | Outdoor Burning Ozone Contingency Measure | 01/23/03 | 8/05/04, 69 FR 47364
8.09 | Description of King County No-Burn Area | 01/01/01 | 8/31/04, 69 FR 53007
8.10 | Description of Pierce County No-Burn Area | 01/01/01 | 8/31/04, 69 FR 53007
8.11 | Description of Snohomish County No-Burn Area | 01/01/01 | 8/31/04, 69 FR 53007
8.12 | Description of Kitsap County No-Burn Area | 11/30/02 | 8/31/04, 69 FR 53007
Regulation I—Article 9: Emission Standards
9.03 | Emission of Air Contaminant: Visual Standard | 05/01/04 | 4/22/20, 85 FR 22357 | Except 9.03(e). Replaces WAC 173-400-040(2).
9.04 | Opacity Standards for Equipment with Continuous Opacity Monitoring Systems | 05/01/04 | 4/22/20, 85 FR 22357 | Except 9.04(d)(2) and 9.04(f).
9.05 | Refuse Burning | 1/13/94 | 06/29/95, 60 FR 33734
9.07 | Sulfur Dioxide Emission Standard | 05/19/94 | 4/22/20, 85 FR 22357 | Replaces WAC 173-400-040(7).
9.08 | Fuel Oil Standards | 05/01/04 | 4/22/20, 85 FR 22357 | Approved only as it applies to the regulation of criteria pollutants.
9.09 | Particulate Matter Emission Standards | 06/01/98 | 4/22/20, 85 FR 22357 | Replaces WAC 173-400-050(1) & (3) and 173-400-060.
9.11(a) | Emission of Air Contaminant: Detriment to Person or Property | 04/17/99 | 4/22/20, 85 FR 22357 | Replaces WAC 173-400-040(6).
9.13 | Emission of Air Contaminant: Concealment and Masking Restricted | 06/09/88 | 4/22/20, 85 FR 22357 | Replaces WAC 173-400-040(8).
9.15 | Fugitive Dust Control Measures | 04/17/99 | 4/22/20, 85 FR 22357 | Replaces WAC 173-400-040(9)(a).
9.16 | Spray-Coating Operations | 12/02/10 | 4/22/20, 85 FR 22357
9.18 | Crushing Operations | 03/02/12 | 4/22/20, 85 FR 22357
9.20 | Maintenance of Equipment | 6/9/88 | 08/29/94, 59 FR 44324
Regulation I—Article 12: Standards of Performance for Continuous Emission Monitoring Systems
12.01 | Applicability | 06/01/98 | 8/31/04, 69 FR 53007
12.03 | Continuous Emission Monitoring Systems | 11/01/15 | 4/22/20, 85 FR 22357 | Replaces WAC 173-400-105(7).
Regulation I—Article 13: Solid Fuel Burning Device Standards
13.01 | Policy and Purpose | 12/01/12 | 5/29/13, 78 FR 32131
13.02 | Definitions | 12/01/12 | 5/29/13, 78 FR 32131
13.03 | Opacity Standards | 12/01/12 | 5/29/13, 78 FR 32131
13.04 | Prohibited Fuel Types | 12/01/12 | 5/29/13, 78 FR 32131
13.05 | Curtailment | 12/01/12 | 5/29/13, 78 FR 32131
13.06 | Emission Performance Standards | 12/01/12 | 5/29/13, 78 FR 32131
13.07 | Prohibition on Wood Stoves that are not Certified Wood Stoves | 12/01/12 | 5/29/13, 78 FR 32131
Regulation II—Article 1: Purpose, Policy, Short Title, and Definitions
1.01 | Purpose | 11/01/99 | 08/31/04, 69 FR 53007
1.02 | Policy | 11/01/99 | 08/31/04, 69 FR 53007
1.03 | Short Title | 11/01/99 | 08/31/04, 69 FR 53007
1.04 | General Definitions | 12/11/80 | 02/28/83, 48 FR 8273
1.05 | Special Definitions | 9/1/03 | 09/17/13, 78 FR 57073
Regulation II—Article 2: Gasoline Marketing Emission Standards
2.01 | Definitions | 08/13/99 | 08/31/04, 69 FR 53007
2.03 | Petroleum Refineries | 07/15/91 | 08/29/94, 59 FR 44324
2.05 | Gasoline Loading Terminals | 01/13/94 | 06/29/95, 60 FR 33734
2.06 | Bulk Gasoline Plants | 07/15/91 | 08/29/94, 59 FR 44324
2.07 | Gasoline Stations | 01/10/00 | 08/31/04, 69 FR 53007
2.08 | Gasoline Transport Tanks | 08/13/99 | 08/31/04, 69 FR 53007
2.09 | Oxygenated Gasoline Carbon Monoxide Contingency Measure and Fee Schedule | 01/23/03 | 08/05/04, 69 FR 47365
2.10 | Gasoline Station Ozone Contingency Measure | 01/23/03 | 08/05/04, 69 FR 47365
Regulation II—Article 3: Miscellaneous Volatile Organic Compound Emission Standards
3.01 | Cutback Asphalt Paving | 7/15/91 | 08/29/94, 59 FR 44324
3.02 | Volatile Organic Compound Storage Tanks | 8/13/99 | 08/31/04, 69 FR 53007
3.03 | Can and Paper Coating Operations | 3/17/94 | 06/29/95, 60 FR 33734
3.04 | Motor Vehicle and Mobile Equipment Coating Operations | 9/1/03 | 09/17/13, 78 FR 57073
3.05 | Graphic Arts Systems | 1/13/94 | 06/29/95, 60 FR 33734
3.08 | Polyester, Vinylester, Gelcoat, and Resin Operations | 1/13/94 | 06/29/95, 60 FR 33734
3.09 | Aerospace Component Coating Operations | 1/13/94 | 6/29/95, 60 FR 33734
Washington Administrative Code, Chapter 173-400 Regulations Incorporated by Reference in Regulation I, Section 6.01
173-400-030 | Definitions | 12/29/12 | 4/22/20, 85 FR 22357 | Except: 173-400-030(91).
173-400-081 | Startup and Shutdown | 04/01/11 | 4/22/20, 85 FR 22357
173-400-110 | New Source Review (NSR) for Sources and Portable Sources | 12/29/12 | 4/22/20, 85 FR 22357 | 173-400-110(1)(c)(i) and 173-400-110(1)(d) only.
173-400-111 | Processing Notice of Construction Applications for Sources, Stationary Sources and Portable Sources | 07/01/16 | 4/22/20, 85 FR 22357 | Except: 173-400-111(3)(h); —The part of 173-400-111(8)(a)(v) that says, “and 173-460-040,”; 173-400-111(9).
173-400-112 | Requirements for New Sources in Nonattainment Areas | 12/29/12 | 4/22/20, 85 FR 22357
173-400-113 | Requirements for New Sources in Attainment or Unclassifiable Areas | 12/29/12 | 4/22/20, 85 FR 22357 | Except: 173-400-113(3), second sentence.
173-400-117 | Special Protection Requirements for Federal Class I Areas | 12/29/12 | 4/22/20, 85 FR 22357
173-400-171 | Public Notice and Opportunity for Public Comment | 07/01/16 | 4/22/20, 85 FR 22357 | Except: —The part of 173-400-171(3)(b) that says, “or any increase in emissions of a toxic air pollutant above the acceptable source impact level for that toxic air pollutant as regulated under chapter 173-460 WAC”; 173-400-171(12).
173-400-200 | Creditable Stack Height and Dispersion Techniques | 02/10/05 | 4/22/20, 85 FR 22357
173-400-560 | General Order of Approval | 12/29/12 | 4/22/20, 85 FR 22357 | Except: —The part of 173-400-560(1)(f) that says, “173-460 WAC”.
173-400-800 | Major Stationary Source and Major Modification in a Nonattainment Area | 4/01/11 | 4/22/20, 85 FR 22357 | EPA did not review WAC 173-400-800 through 860 for consistency with the August 24, 2016 PM2.5 implementation rule (see the Federal Register of August 24, 2016); nor does PSCAA have an obligation to submit rule revisions to address the 2016 PM2.5 implementation rule at this time.
173-400-810 | Major Stationary Source and Major Modification Definitions | 07/01/16 | 4/22/20, 85 FR 22357
173-400-820 | Determining if a New Stationary Source or Modification to a Stationary Source is Subject to these Requirements | 12/29/12 | 4/22/20, 85 FR 22357
173-400-830 | Permitting Requirements | 07/01/16 | 4/22/20, 85 FR 22357
173-400-840 | Emission Offset Requirements | 07/01/16 | 4/22/20, 85 FR 22357
173-400-850 | Actual Emissions Plantwide Applicability Limitation (PAL) | 07/01/16 | 4/22/20, 85 FR 22357
173-400-860 | Public Involvement Procedures | 4/01/11 | 4/22/20, 85 FR 22357
Washington Department of Ecology Regulations
Washington Administrative Code, Chapter 173-400—General Regulations for Air Pollution Sources
173-400-020 | Applicability | 12/29/12 | 4/22/20, 85 FR 22357
173-400-040 | General Standards for Maximum Emissions | 09/16/18 | 4/22/20, 85 FR 22357 | 173-400-040(1)(a) & (b), 173-400-040(4); and 173-400-040(9)(b) only.
173-400-070 | Emission Standards for Certain Source Categories | 03/22/91 | 06/02/95, 60 FR 28726 | Except (7).
173-400-091 | Voluntary Limits on Emissions | 4/1/11 | 4/22/20, 85 FR 22357 | 9/20/93 version continues to be approved under the authority of CAA Section 112(l) with respect to Section 112 hazardous air pollutants. See the Federal Register of June 2, 1995).
173-400-105 | Records, Monitoring and Reporting | 11/25/18 | 4/22/20, 85 FR 22357 | Except: 173-400-105(7).
173-400-107 | Excess Emissions | 09/20/93 | 06/02/95, 60 FR 28726
173-400-118 | Designation of Class I, II, and III Areas | 12/29/12 | 4/22/20, 85 FR 22357
173-400-131 | Issuance of Emission Reduction Credits | 04/1/11 | 4/22/20, 85 FR 22357
173-400-136 | Use of Emission Reduction Credits (ERC) | 12/29/12 | 4/22/20, 85 FR 22357
173-400-151 | Retrofit Requirements for Visibility Protection | 2/10/05 | 4/22/20, 85 FR 22357
173-400-161 | Compliance Schedules | 3/22/91 | 06/02/95, 60 FR 28726
173-400-175 | Public Information | 2/10/05 | 4/22/20, 85 FR 22357
173-400-190 | Requirements for Nonattainment Areas | 3/22/91 | 06/02/95, 60 FR 28726
173-400-205 | Adjustment for Atmospheric Conditions | 3/22/91 | 06/02/95, 60 FR 28726
173-400-210 | Emission Requirements of Prior Jurisdictions | 3/22/91 | 06/02/95, 60 FR 28726

Table 8—Additional Regulations Approved for the Southwest Clean Air Agency (SWCAA) Jurisdiction
[Applicable in Clark, Cowlitz, Lewis, Skamania and Wahkiakum counties, excluding facilities subject to Energy Facilities Site Evaluation Council (EFSEC) jurisdiction, Indian reservations and any other area where the EPA or an Indian tribe has demonstrated that a tribe has jurisdiction, and facilities subject to the applicability sections of WAC 173-405-012, 173-410-012, and 173-415-012.]
State/local citation | Title/subject | State/local effective date | EPA approval date | Explanations
Southwest Clean Air Agency Regulations
SWCAA 400—General Regulations for Air Pollution Sources
400-010 | Policy and Purpose | 03/18/01 | 04/10/17, 82 FR 17136
400-020 | Applicability | 10/09/16 | 04/10/17, 82 FR 17136
400-030 | Definitions | 10/09/16 | 04/10/17, 82 FR 17136 | Except: 400-030(21) and (129).
400-036 | Portable Sources from Other Washington Jurisdictions | 10/09/16 | 04/10/17, 82 FR 17136
400-040(1)(a) | General Standards for Maximum Emissions | 9/21/95 | 2/26/97, 62 FR 8624
400-040 | General Standards for Maximum Emissions | 10/09/16 | 04/10/17, 82 FR 17136 | Except: 400-040(1)(a), (c) and (d); 400-040(2); and 400-040(4).
400-050 | Emission Standards for Combustion and Incineration Units | 10/09/16 | 04/10/17, 82 FR 17136 | Except: 400-050(3); 400-050(5); and 400-050(6).
400-060 | Emission Standards for General Process Units | 10/09/16 | 04/10/17, 82 FR 17136
400-070(2)(a) | Emission Standards for Certain Source Categories | 9/21/95 | 2/26/97, 62 FR 8624
400-070 | General Requirements for Certain Source Categories | 10/09/16 | 04/10/17, 82 FR 17136 | Except: 400-070(2)(a); 400-070(3)(b); 400-070(5); 400-070(6);400-070(7); 400-070(8)(c); 400-070(9); 400-070(10);400-070(11); 400-070(12); 400-070(14); and 400-070(15)(c).
400-072 | Small Unit Notification for Selected Source Categories | 10/09/16 | 04/10/17, 82 FR 17136 | Except: 400-072(5)(a)(ii)(B); 400-072(5)(d)(ii)(B); 400-072(5)(d)(iii)(A); 400-072(5)(d)(iii)(B); and all reporting requirements related to toxic air pollutants.
400-074 | Gasoline Transport Tanker Registration | 11/15/09 | 04/10/17, 82 FR 17136 | Except: 400-074(2).
400-081 | Startup and Shutdown | 10/09/16 | 04/10/17, 82 FR 17136
400-091 | Voluntary Limits on Emissions | 10/09/16 | 04/10/17, 82 FR 17136
400-105 | Records, Monitoring and Reporting | 10/09/16 | 04/10/17, 82 FR 17136 | Except: Reporting requirements related to toxic air pollutants.
400-106 | Emission Testing and Monitoring at Air Contaminant Sources | 10/09/16 | 04/10/17, 82 FR 17136 | Except: 400-106(1)(d) through (g); and 400-106(2).
400-107 | Excess Emissions | 9/21/95 | 2/26/97, 62 FR 8624
400-109 | Air Discharge Permit Applications | 10/09/16 | 04/10/17, 82 FR 17136 | Except: The toxic air pollutant emissions thresholds contained in 400-109(3)(d); 400-109(3)(e)(ii); and 400-109(4).
400-110 | Application Review Process for Stationary Sources (New Source Review) | 10/09/16 | 04/10/17, 82 FR 17136 | Except: 400-110(1)(d).
400-111 | Requirements for New Sources in a Maintenance Plan Area | 10/09/16 | 04/10/17, 82 FR 17136 | Except: 400-111(7).
400-112 | Requirements for New Sources in Nonattainment Areas | 10/09/16 | 04/10/17, 82 FR 17136 | Except: 400-112(6).
400-113 | Requirements for New Sources in Attainment or Nonclassifiable Areas | 10/09/16 | 04/10/17, 82 FR 17136 | Except: 400-113(5).
400-114 | Requirements for Replacement or Substantial Alteration of Emission Control Technology at an Existing Stationary Source | 11/09/03 | 04/10/17, 82 FR 17136
400-116 | Maintenance of Equipment | 11/09/03 | 04/10/17, 82 FR 17136
400-130 | Use of Emission Reduction Credits | 10/09/16 | 04/10/17, 82 FR 17136
400-131 | Deposit of Emission Reduction Credits Into Bank | 10/09/16 | 04/10/17, 82 FR 17136
400-136 | Maintenance of Emission Reduction Credits in Bank | 10/09/16 | 04/10/17, 82 FR 17136
400-151 | Retrofit Requirements for Visibility Protection | 11/09/03 | 04/10/17, 82 FR 17136
400-161 | Compliance Schedules | 03/18/01 | 04/10/17, 82 FR 17136
400-171 | Public Involvement | 10/09/16 | 04/10/17, 82 FR 17136 | Except: 400-171(2)(a)(xii).
400-190 | Requirements for Nonattainment Areas | 10/09/16 | 04/10/17, 82 FR 17136
400-200 | Vertical Dispersion Requirement, Creditable Stack Height and Dispersion Techniques | 10/09/16 | 04/10/17, 82 FR 17136
400-205 | Adjustment for Atmospheric Conditions | 03/18/01 | 04/10/17, 82 FR 17136
400-210 | Emission Requirements of Prior Jurisdictions | 03/18/01 | 04/10/17, 82 FR 17136
400-800 | Major Stationary Source and Major Modification in a Nonattainment Area | 10/09/16 | 04/10/17, 82 FR 17136
400-810 | Major Stationary Source and Major Modification Definitions | 10/09/16 | 04/10/17, 82 FR 17136
400-820 | Determining If a New Stationary Source or Modification to a Stationary Source is Subject to These Requirements | 10/09/16 | 04/10/17, 82 FR 17136
400-830 | Permitting Requirements | 10/09/16 | 04/10/17, 82 FR 17136
400-840 | Emission Offset Requirements | 10/09/16 | 04/10/17, 82 FR 17136
400-850 | Actual Emissions—Plantwide Applicability Limitation (PAL) | 10/09/16 | 04/10/17, 82 FR 17136
400-860 | Public Involvement Procedures | 10/09/16 | 04/10/17, 82 FR 17136
Appendix A | SWCAA Method 9 Visual Opacity Determination Method | 10/09/16 | 04/10/17, 82 FR 17136
Appendix B | Description of Vancouver Ozone and Carbon Monoxide Maintenance Area Boundary | 10/09/16 | 04/10/17, 82 FR 17136 |
Emission Standards and Controls for Sources Emitting Volatile Organic Compounds
490-010 | Policy and Purpose | 11/21/96 | 5/19/97, 62 FR 27204
490-020 | Definitions | 11/21/96 | 5/19/97, 62 FR 27204
490-025 | General Applicability | 11/21/96 | 5/19/97, 62 FR 27204
490-030 | Registration and Reporting | 11/21/96 | 5/19/97, 62 FR 27204
490-040 | Requirements | 11/21/96 | 5/19/97, 62 FR 27204
490-080 | Exceptions & Alternative Methods | 11/21/96 | 5/19/97, 62 FR 27204
490-090 | New Source Review | 11/21/96 | 5/19/97, 62 FR 27204
490-200 | Petroleum Refinery Equipment Leaks | 11/21/96 | 5/19/97, 62 FR 27204
490-201 | Petroleum Liquid Storage in External Floating Roof Tanks | 11/21/96 | 5/19/97, 62 FR 27204
490-202 | Leaks from Gasoline Transport Tanks and Vapor Collection Systems | 11/21/96 | 5/19/97, 62 FR 27204
490-203 | Perchloroethylene Dry Cleaning Systems | 11/21/96 | 5/19/97, 62 FR 27204
490-204 | Graphic Arts Systems | 11/21/96 | 5/19/97, 62 FR 27204
490-205 | Surface Coating of Miscellaneous Metal Parts and Products | 11/21/96 | 5/19/97, 62 FR 27204
490-207 | Surface Coating of Flatwood Paneling | 11/21/96 | 5/19/97, 62 FR 27204
490-208 | Aerospace Assembly & Component Coating Operations | 11/21/96 | 5/19/97, 62 FR 27204
Emissions Standards and Controls for Sources Emitting Gasoline Vapors
491-010 | Policy and Purpose | 11/21/96 | 5/19/97, 62 FR 27204
491-015 | Applicability | 11/21/96 | 5/19/97, 62 FR 27204
491-020 | Definitions | 11/21/96 | 5/19/97, 62 FR 27204
491-030 | Registration | 11/21/96 | 5/19/97, 62 FR 27204
491-040 | Gasoline Vapor Control Requirements | 11/21/96 | 5/19/97, 62 FR 27204
491-050 | Failures, Certification, Testing & Recordkeeping | 11/21/96 | 5/19/97, 62 FR 27204
491-060 | Severability | 11/21/96 | 5/19/97, 62 FR 27204
Oxygenated Fuels
492-010 | Policy and Purpose | 11/21/96 | 4/30/97, 62 FR 23363
492-020 | Applicability | 11/21/96 | 4/30/97, 62 FR 23363
492-030 | Definitions | 11/21/96 | 4/30/97, 62 FR 23363
492-040 | Compliance Requirements | 11/21/96 | 4/30/97, 62 FR 23363
492-050 | Registration Requirements | 11/21/96 | 4/30/97, 62 FR 23363
492-060 | Labeling Requirements | 11/21/96 | 4/30/97, 62 FR 23363
492-070 | Control Area and Control Period | 11/21/96 | 4/30/97, 62 FR 23363
492-080 | Enforcement and Compliance | 11/21/96 | 4/30/97, 62 FR 23363
492-090 | Unplanned Conditions | 11/21/96 | 4/30/97, 62 FR 23363
492-100 | Severability | 11/21/96 | 4/30/97, 62 FR 23363
VOC Area Source Rules
493-100 | Consumer Products (Reserved) | 05/26/96 | 5/19/97, 62 FR 27204
493-200-010 | Applicability | 05/26/96 | 5/19/97, 62 FR 27204
493-200-020 | Definitions | 05/26/96 | 5/19/97, 62 FR 27204
493-200-030 | Spray Paint Standards & Exemptions | 05/26/96 | 5/19/97, 62 FR 27204
493-200-040 | Requirements for Manufacture, Sale and Use of Spray Paint | 05/26/96 | 5/19/97, 62 FR 27204
493-200-050 | Recordkeeping & Reporting Requirements | 05/26/96 | 5/19/97, 62 FR 27204
493-200-060 | Inspection and Testing Requirements | 05/26/96 | 5/19/97, 62 FR 27204
493-300-010 | Applicability | 5/26/96 | 5/19/97, 62 FR 27204
493-300-020 | Definitions | 5/26/96 | 5/19/97, 62 FR 27204
493-300-030 | Standards | 5/26/96 | 5/19/97, 62 FR 27204
493-300-040 | Requirements for Manufacture, Sale and Use of Architectural Coatings | 5/26/96 | 5/19/97, 62 FR 27204
493-300-050 | Recordkeeping & Reporting Requirements | 5/26/96 | 5/19/97, 62 FR 27204
493-300-060 | Inspection and Testing Requirements | 5/26/96 | 5/19/97, 62 FR 27204
493-400-010 | Applicability | 05/26/96 | 5/19/97, 62 FR 27204
493-400-020 | Definitions | 05/26/96 | 5/19/97, 62 FR 27204
493-400-030 | Coating Standards & Exemptions | 05/26/96 | 5/19/97, 62 FR 27204
493-400-040 | Requirements for Manufacture & Sale of Coating | 05/26/96 | 5/19/97, 62 FR 27204
493-400-050 | Requirements for Motor Vehicle Refinishing in Vancouver AQMA | 05/26/96 | 5/19/97, 62 FR 27204
493-400-060 | Recordkeeping and Reporting Requirements | 05/26/96 | 5/19/97, 62 FR 27204
493-400-070 | Inspection & Testing Requirements | 05/26/96 | 5/19/97, 62 FR 27204
493-500-010 | Applicability | 05/26/96 | 5/19/97, 62 FR 27204
493-500-020 | Compliance Extensions | 05/26/96 | 5/19/97, 62 FR 27204
493-500-030 | Exemption from Disclosure to the Public | 05/26/96 | 5/19/97, 62 FR 27204
493-500-040 | Future Review | 05/26/96 | 5/19/97, 62 FR 27204
Washington Department of Ecology Regulations
Washington Administrative Code, Chapter 173-400—General Regulations for Air Pollution Sources
173-400-117 | Special Protection Requirements for Federal Class I Areas | 12/29/12 | 04/10/17, 82 FR 17136 | For permits issued under the applicability provisions of WAC 173-400-800.
173-400-118 | Designation of Class I, II, and III Areas | 12/29/12 | 04/10/17, 82 FR 17136
173-400-560 | General Order of Approval | 12/29/12 | 04/10/17, 82 FR 17136 | Except: —The part of 173-400-560(1)(f) that says, “173-460 WAC”.

Table 9—Additional Regulations Approved for the Spokane Regional Clean Air Agency (SRCAA) Jurisdiction
[Applicable in Spokane county, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Spokane Regional Clean Air Agency Regulation I
Article I—Policy, Short Title, and Definitions
1.01 | Policy | 09/01/20 | 5/10/21, 86 FR 24718 | Subsections (A) and (B) replace WAC 173-400-010.
1.02 | Name of Agency | 09/01/20 | 5/10/21, 86 FR 24718
1.03 | Short Title | 09/01/20 | 5/10/21, 86 FR 24718
1.04 | General Definitions | 09/01/20 | 5/10/21, 86 FR 24718 | Except subsections (17), (41), (52), (60), (74), (101), (112), (119), and (122). Section 1.04 replaces WAC 173-400-030 except the WAC 173-400-030 definitions list in this table 9.
1.05 | Acronym Index | 09/01/20 | 5/10/21, 86 FR 24718
Article II—General Provisions
2.08 | Falsification of Statements or Documents, and Treatment of Documents | 09/01/20 | 5/10/21, 86 FR 24718 | Subsections (E) and (F) only. Subsection (E) replaces WAC 173-400-105(6). Subsection (F) replaces WAC 173-400-105(8).
2.09 | Source Tests | 09/01/20 | 5/10/21, 86 FR 24718 | Section 2.09 replaces WAC 173-400-105(4).
2.13 | Federal and State Regulation Reference Date | 09/01/20 | 5/10/21, 86 FR 24718 | Subsection (A) replaces WAC 173-400-025.
2.14 | Washington Administrative Codes (WACS) | 09/01/20 | 5/10/21, 86 FR 24718 | Subsection (A)(1) only, and only with respect to those revised Chapter 173-400 WAC provisions that are identified for incorporation by reference in this table 9.
Article IV—Registration
4.03 | Registration Exemptions | 09/01/20 | 5/10/21, 86 FR 24718 | Subsections (B) and (C) only.
4.04 | Stationary Sources and Source Categories Subject to Registration | 09/01/20 | 5/10/21, 86 FR 24718 | Except subsections (A)(3)(u), (A)(3)(v), (A)(5)(b), (A)(5)(e)(9), or any other provision as it relates to the regulation of toxic air pollutants or odors.
4.05 | Closure of a Stationary Source or Emissions Unit(s) | 09/01/20 | 5/10/21, 86 FR 24718
Article V—New Source Review for Stationary Sources and Portable Sources
5.02 | New Source Review—Applicability and when Required | 09/01/20 | 5/10/21, 86 FR 24718 | Except subsections (C)(5) and (I). Section 5.02 Replaces WAC 173-400-110. Subsection (F) replaces WAC 173-400-111(2).
5.03 | NOC and PSP Fees | 09/01/20 | 5/10/21, 86 FR 24718
5.04 | Information Required | 09/01/20 | 5/10/21, 86 FR 24718 | Except subsection (A)(8). Collectively, sections 5.04, 5.06, 5.07, 5.10, 5.13, and 5.14 replace the permitting procedures in WAC 173-400-111.
5.05 | Public Involvement | 09/01/20 | 5/10/21, 86 FR 24718 | Except subsection (C)(15). Section 5.05 replaces WAC 173-400-171.
5.06 | Application Completeness Determination | 09/01/20 | 5/10/21, 86 FR 24718 | Collectively, sections 5.04, 5.06, 5.07, 5.10, 5.13, and 5.14 replace the permitting procedures in WAC 173-400-111.
5.07 | Processing NOC Applications for Stationary Sources | 09/01/20 | 5/10/21, 86 FR 24718 | Except subsections (A)(1)(g) and (B). Collectively, sections 5.04, 5.06, 5.07, 5.10, 5.13, and 5.14 replace the permitting procedures in WAC 173-400-111, and subsection 5.07(A)(7) replaces WAC 173-400-110(2)(a).
5.08 | Portable Sources | 09/01/20 | 5/10/21, 86 FR 24718 | Except subsection (A)(6). Section 5.08 replaces WAC 173-400-036.
5.09 | Operating Requirements for Order of Approval and Permission to Operate | 09/01/20 | 5/10/21, 86 FR 24718 | Except subsection (C).
5.10 | Changes to an Order of Approval or Permission to Operate | 09/01/20 | 5/10/21, 86 FR 24718 | Collectively, sections 5.04, 5.06, 5.07, 5.10, 5.13, and 5.14 replace the permitting procedures in WAC 173-400-111.
5.11 | Notice of Startup of a Stationary Source or a Portable Source | 09/01/20 | 5/10/21, 86 FR 24718
5.12 | Work Done Without an Approval | 09/01/20 | 5/10/21, 86 FR 24718
5.13 | Order of Approval Construction Time Limits | 09/01/20 | 5/10/21, 86 FR 24718 | Collectively, sections 5.04, 5.06, 5.07, 5.10, 5.13, and 5.14 replace the permitting procedures in WAC 173-400-111.
5.14 | Appeals | 09/01/20 | 5/10/21, 86 FR 24718 | Collectively, sections 5.04, 5.06, 5.07, 5.10, 5.13, and 5.14 replace the permitting procedures in WAC 173-400-111.
5.15 | Obligation to Comply | 09/01/20 | 5/10/21, 86 FR 24718
Article VI—Emissions Prohibited
6.04 | Emission of Air Contaminant: Detriment to Person or Property | 09/01/20 | 5/10/21, 86 FR 24718 | Subsections (A), (B), (C), and (H) only and excepting provisions in RCW 70.94.640 (incorporated by reference) that relate to odor. Subsection (C) replaces WAC 173-400-040(6).
6.05 | Particulate Matter & Preventing Particulate Matter from Becoming Airborne | 09/01/20 | 5/10/21, 86 FR 24718 | Except subsection (A). Section 6.05 supplements but does not replace WAC 173-400-040(4) and (9).
6.07 | Emission of Air Contaminant Concealment and Masking Restricted | 09/01/20 | 5/10/21, 86 FR 24718 | Section 6.07 replaces WAC 173-400-040(8).
6.14 | Standards for Control of Particulate Matter on Paved Surfaces | 09/01/20 | 5/10/21, 86 FR 24718 | Section 6.14 supplements but does not replace WAC 173-400-040(9).
6.15 | Standards for Control of Particulate Matter on Unpaved Roads | 09/01/20 | 5/10/21, 86 FR 24718 | Section 6.15 supplements but does not replace WAC 173-400-040(9).
Article VIII—Solid Fuel Burning Device Standards
8.01 | Purpose | 9/02/14 | 9/28/15, 80 FR 58216
8.02 | Applicability | 9/02/14 | 9/28/15, 80 FR 58216
8.03 | Definitions | 9/02/14 | 9/28/15, 80 FR 58216
8.04 | Emission Performance Standards | 9/02/14 | 9/28/15, 80 FR 58216 | Except the incorporation by reference of WAC 173-433-130, 173-433-170, and 173-433-200.
8.05 | Opacity Standards | 9/02/14 | 9/28/15, 80 FR 58216
8.06 | Prohibited Fuel Types | 9/02/14 | 9/28/15, 80 FR 58216
8.07 | Curtailment | 9/02/14 | 9/28/15, 80 FR 58216
8.08 | Exemptions | 9/02/14 | 9/28/15, 80 FR 58216
8.09 | Procedure to Geographically Limit Solid Fuel Burning Devices | 9/02/14 | 9/28/15, 80 FR 58216
8.10 | Restrictions on Installation of Solid Fuel Burning Devices | 9/02/14 | 9/28/15, 80 FR 58216
Washington Administrative Code, Chapter 173-400—General Regulations for Air Pollution Sources: Adopted by Reference in SRCAA Regulation I, Subsection 2.14(A)(1)
173-400-020 | Applicability | 12/29/12 | 5/10/21, 86 FR 24718
173-400-030(24) | Definitions | 3/22/91 | 6/2/95, 60 FR 28726
173-400-030 | Definitions | 9/16/18 | 5/10/21, 86 FR 24718 | Only the following definitions: Adverse Impact on Visibility; Capacity Factor; Class I Area; Dispersion Technique; Emission Threshold; Excess Stack Height; Existing Stationary Facility; Federal Class I Area; Federal Land Manager; Fossil Fuel-fired Steam Generator; General Process Unit; Greenhouse Gases; Industrial Furnace; Mandatory Class I Federal Area; Natural Conditions; Projected Width; Reasonably Attributable; Sulfuric Acid Plant; and Wood Waste.
173-400-040(1)(a) & (b) | General Standards for Maximum Emissions | 3/22/91 | 6/2/95, 60 FR 28726
173-400-040 | General Standards for Maximum Emissions | 9/16/18 | 5/10/21, 86 FR 24718 | Except: 173-400-040(2); 173-400-040(3); 173-400-040(5); 173-400-040(6); 173-400-040(8).
173-400-050 | Emission Standards for Combustion and Incineration Units | 9/16/18 | 5/10/21, 86 FR 24718 | Except: 173-400-050(2); 173-400-050(4); 173-400-050(5); 173-400-050(6).
173-400-060 | Emission Standards for General Process Units | 11/25/18 | 5/10/21, 86 FR 24718
173-400-070 | Emission Standards for Certain Source Categories | 3/22/91 | 6/2/95, 60 FR 28726 | Except (7).
173-400-081 | Startup and Shutdown | 9/20/93 | 6/2/95, 60 FR 28726
173-400-091 | Voluntary Limits on Emissions | 4/1/11 | 5/10/21, 86 FR 24718 | 9/20/93 version continues to be approved under the authority of CAA Section 112(l) with respect to Section 112 hazardous air pollutants. See the Federal Register of June 2, 1995).
173-400-105 | Records, Monitoring and Reporting | 11/25/18 | 5/10/21, 86 FR 24718 | Except: 173-400-105(3); 173-400-105(4); 173-400-105(6); 173-400-105(8).
173-400-107 | Excess Emissions | 9/20/93 | 6/2/95, 60 FR 28726
173-400-112 | Requirements for New Sources in Nonattainment Areas | 12/29/12 | 5/10/21, 86 FR 24718 | Except (8).
173-400-113 | Requirements for New Sources in Attainment or Unclassifiable Areas | 12/29/12 | 5/10/21, 86 FR 24718 | Except: 173-400-113(3), second sentence.
173-400-117 | Special Protection Requirements for Federal Class I Areas | 12/29/12 | 5/10/21, 86 FR 24718
173-400-118 | Designation of Class I, II, and III Areas | 12/29/12 | 5/10/21, 86 FR 24718
173-400-131 | Issuance of Emission Reduction Credits | 4/1/11 | 5/10/21, 86 FR 24718
173-400-136 | Use of Emission Reduction Credits (ERC) | 12/29/12 | 5/10/21, 86 FR 24718
173-400-151 | Retrofit Requirements for Visibility Protection | 2/10/05 | 5/10/21, 86 FR 24718
173-400-161 | Compliance Schedules | 3/22/91 | 6/2/95, 60 FR 28726
173-400-175 | Public Information | 2/10/05 | 5/10/21, 86 FR 24718
173-400-190 | Requirements for Nonattainment Areas | 3/22/91 | 6/2/95, 60 FR 28726
173-400-200 | Creditable Stack Height and Dispersion Techniques | 2/10/05 | 5/10/21, 86 FR 24718
173-400-205 | Adjustment for Atmospheric Conditions | 3/22/91 | 6/2/95, 60 FR 28726
173-400-210 | Emission Requirements of Prior Jurisdictions | 3/22/91 | 6/2/95, 60 FR 28726
173-400-560 | General Order of Approval | 12/29/12 | 5/10/21, 86 FR 24718 | Except: The part of 173-400-560(1)(f) that says, “173-460 WAC”.
173-400-800 | Major Stationary Source and Major Modification in a Nonattainment Area | 4/1/11 | 5/10/21, 86 FR 24718 | EPA did not review WAC 173-400-800 through 860 for consistency with the August 24, 2016 PM2.5 implementation rule (see the Federal Register of August 24, 2016); nor does SRCAA have an obligation to submit rule revisions to address the 2016 PM2.5 implementation rule at this time.
173-400-810 | Major Stationary Source and Major Modification Definitions | 7/1/16 | 5/10/21, 86 FR 24718
173-400-820 | Determining if a New Stationary Source or Modification to a Stationary Source is Subject to these Requirements | 12/29/12 | 5/10/21, 86 FR 24718
173-400-830 | Permitting Requirements | 7/1/16 | 5/10/21, 86 FR 24718
173-400-840 | Emission Offset Requirements | 7/1/16 | 5/10/21, 86 FR 24718
173-400-850 | Actual Emissions Plantwide Applicability Limitation (PAL) | 7/1/16 | 5/10/21, 86 FR 24718
173-400-860 | Public Involvement Procedures | 4/1/11 | 5/10/21, 86 FR 24718

Table 10—Additional Regulations Approved for the Yakima Regional Clean Air Agency (YRCAA) Jurisdiction
[Applicable in Yakima County, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012.]
State/local citation | Title/subject | State/local effective date | EPA approval date | Explanations
Yakima Regional Clean Air Agency Regulations
Article I—Policy, Short Title and Definitions
1.01 | Policy | 12/15/95 | 2/2/98, 63 FR 5269
1.02 | Short Title | 11/18/93 | 2/2/98, 63 FR 5269
1.03 | Definitions | 12/15/95 | 2/2/98, 63 FR 5269
Article II—General Provisions
2.02 | Control Officer- Powers & Duties | 11/18/93 | 2/2/98, 63 FR 5269
2.03 | Miscellaneous Provisions | 11/18/93 | 2/2/98, 63 FR 5269
2.04 | Confidentiality | 11/18/93 | 2/2/98, 63 FR 5269
2.05 | Advisory Council | 11/18/93 | 2/2/98, 63 FR 5269
Article III—Violations—Orders and Hearings
3.01 | Notice of Violation—Corrective Action Hearings | 11/18/93 | 2/2/98, 63 FR 5269
3.02 | Finality of Order | 11/18/93 | 2/2/98, 63 FR 5269
3.03 | Stay of Order Pending Appeal | 11/18/93 | 2/2/98, 63 FR 5269
3.04 | Voluntary Compliance | 11/18/93 | 2/2/98, 63 FR 5269
Article IV—Registration and Notice of Construction
4.01 | Registration | 12/15/95 | 2/2/98, 63 FR 5269
4.02 | Notice of Construction | 12/15/95 | 2/2/98, 63 FR 5269
4.03 | Exceptions to Article 4 | 11/18/93 | 2/2/98, 63 FR 5269
Article V—Emissions Standards and Preventative Measures
5.01 | Outdoor Burning | 12/15/95 | 2/2/98, 63 FR 5269
5.02 | Regulations Applicable to all Outdoor Burning | 12/15/95 | 2/2/98, 63 FR 5269
5.03 | Regulations Applicable to all Outdoor Burning within Jurisdiction of the Yakima County Clean Air Authority, Local Cities, Towns, Fire Protection Districts and Conservation Districts | 12/15/95 | 2/2/98, 63 FR 5269
5.04 | Regulations Applicable to Permits Issued by the Yakima County Clean Air Authority for all Other Outdoor Burning | 12/15/95 | 2/2/98, 63 FR 5269
5.05 | Additional Restrictions on Outdoor Burning | 12/15/95 | 2/2/98, 63 FR 5269
5.06 | General Standards for Maximum Permissible Emissions | 12/15/95 | 2/2/98, 63 FR 5269
5.07 | Minimum Emission Standards for Combustion and Incineration Sources | 12/15/95 | 2/2/98, 63 FR 5269
5.08 | Minimum Emissions Standards for General Process Sources | 12/15/95 | 2/2/98, 63 FR 5269
5.10 | Sensitive Area Designation | 6/20/94 | 2/2/98, 63 FR 5269
5.11 | Monitoring and Special Reporting | 12/15/95 | 2/2/98, 63 FR 5269
5.12 | Preventive Measures | 11/18/93 | 2/2/98, 63 FR 5269
Article VIII—Penalty and Severability
8.01 | Penalty for Violation | 11/18/93 | 2/2/98, 63 FR 5269
8.02 | Additional/Alternative Penalties | 12/15/95 | 2/2/98, 63 FR 5269
8.03 | Assurance of Discontinuance | 11/18/93 | 2/2/98, 63 FR 5269
8.04 | Restraining Order—Injunctions | 11/18/93 | 2/2/98, 63 FR 5269
8.05 | Severability | 12/15/95 | 2/2/98, 63 FR 5269
Article IX—Woodstoves and Fireplaces
9.01 | Policy | 11/18/93 | 2/2/98, 63 FR 5269
9.02 | Opacity | 11/18/93 | 2/2/98, 63 FR 5269
9.03 | Prohibitive Fuel Types | 11/18/93 | 2/2/98, 63 FR 5269
9.04 | Limitations of Sales of Solid Fuel Burning Devices | 11/18/93 | 2/2/98, 63 FR 5269
9.05 | Prohibition of Visible Emissions During Air Pollution Episodes | 12/15/95 | 2/2/98, 63 FR 5269
Article XII—Adoption of State and Federal Regulations
12.01 | State Regulations | 12/15/95 | 2/2/98, 63 FR 5269
Article XIII—Fee Schedules and Other Charges
13.01 | Registration and Fee Schedule | 1/13/94 | 2/2/98, 63 FR 5269
13.02 | Notice of Construction Fee Schedule | 6/20/94 | 2/2/98, 63 FR 5269
13.03 | Outdoor Burning Permit Fees | 6/20/94 | 2/2/98, 63 FR 5269
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726
173-400-070 | Emission Standards for Certain Source Categories | 3/22/91 | 6/2/95, 60 FR 28726 | Except (7).
173-400-081 | Startup and Shutdown | 9/20/93 | 6/2/95, 60 FR 28726
173-400-091 | Voluntary Limits on Emissions | 9/20/93 | 6/2/95, 60 FR 28726 | 9/20/93 version continues to be approved under the authority of CAA Section 112(l) with respect to Section 112 hazardous air pollutants. See the Federal Register of June 2, 1995.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726

(d) EPA-approved state source-specific requirements.

EPA-Approved State of Washington Source-Specific Requirements ¹
Name of source | Order/permit No. | State effective date | EPA approval date | Explanations
Boise Cascade, Wallula Mill | 1614-AQ04 | 9/15/04 | 5/2/05, 70 FR 22597 | Following conditions only: No. 1 (Approval Conditions) & Appendix A.
Emission Limits for Significant Stack Sources | various orders | various dates | 10/26/95, 60 FR 54812
Honam, Inc., Ideal Division (now known as LaFarge North America, Inc.) | #5183 | 2/9/94 | 8/31/04, 69 FR 53007
Saint Gobain Containers LLC | #8244 | 9/9/99 | 8/31/04, 69 FR 53007
Kaiser Order—Alternate Opacity Limit | 91-01 | 12/12/91 | 1/27/97, 62 FR 3800
Kaiser Order—Limiting Potential-to-Emit | 96-03 | 10/4/00 | 7/1/05, 70 FR 38029
Kaiser Order—Limiting Potential-to-Emit | 96-04 | 4/24/96 | 1/27/97, 62 FR 3800
Kaiser Order—Limiting Potential-to-Emit | 96-05 | 10/4/00 | 7/1/05, 70 FR 38029
Kaiser Order—Limiting Potential-to-Emit | 96-06 | 10/19/00 | 7/1/05, 70 FR 38029
RACT Limits for Centralia Power Plant | #97-2057R1 | 2/26/98 | 6/11/03, 68 FR 34821
BP Cherry Point Refinery | Administrative Order No. 7836, Revision 2 | 5/13/15 | 2/16/16, 81 FR 7710 | The following conditions: 1.1, 1.1.1, 1.2, 1.2.1,1.2.2, 2.1, 2.1.1, 2.1.2, 2.1.3, 2.1.4, 2.1.5, 2.2, 2.2.1, 2.2.2, 2.3, 2.3.1, 2.3.2, 2.4, 2.4.1, 2.4.2, 2.4.2.1, 2.5, 2.5.1, 2.5.1.1, 2.5.1.2, 2.5.2, 2.5.3, 2.5.4, 2.6, 2.6.1, 2.6.2, 2.6.3, 2.7, 2.7.1, 2.7.2, 2.7.3, 2.7.4, 2.8, 2.8.1, 2.8.2, 2.8.3, 2.8.4, 2.8.5, 2.8.6, 3, 3.1, 3.1.1,3.1.2, 3.2, 3.2.1, 3.2.2, 3.2.3, 3.2.4, 4, 4.1, 4.1.1, 4.1.1.1, 4.1.1.2, 4.1.1.3, 4.1.1.4, 5, 5.1, 5.2, 6, 6.1, 6.2, 6.3, 7, 9.
Alcoa Intalco Works | Administrative Order No. 7837, Revision 1 | 11/15/10 | 6/11/14, 79 FR 33438 | The following conditions: 1, 2., 2.1, 3., 4., 4.1, Attachment A conditions: A1, A2, A3, A4, A5, A6, A7, A8, A9, A10, A11, A12, A13, A14.
Tesoro Refining and Marketing Company | Administrative Order 7838 | 7/7/10 | 6/11/14, 79 FR 33438 | The following conditions: 1., 1.1, 1.1.1, 1.1.2, 1.2, 1.3, 1.4, 1.5, 1.5.1, 1.5.1.1,1.5.1.2, 1.5.1.3, 1.5.2, 1.5.3, 1.5.4, 1.5.5, 1.5.6, 2., 2.1, 2.1.1, 2.1.1.1, 2.1.2, 2.1.3, 2.2, 2.2.1, 3. 3.1, 3.1.1, 3.1.2, 3.1.2.1, 3.1.2.2, 3.1.2.3, 3.2, 3.2.1, 3.2.1.1, 3.2.1.2, 3.2.1.3, 3.2.1.4, 3.2.1.4.1, 3.2.1.4.2, 3.2.1.4.3, 3.2.1.4.4, 3.2.1.4.5, 3.3, 3.3.1, 3.4, 3.4.1, 3.4.2, 4., 4.1, 5., 5.1, 6., 6.1, 6.1.1, 6.1.2, 6.1.3, 6.1.4, 7., 7.1, 7.1.1, 7.1.2, 7.1.3, 7.1.4, 7.1.5, 7.2, 7.2.1, 7.2.2, 7.2.3, 7.2.4, 8. 8.1, 8.1.1, 8.1.2, 8.2, 8.2.1, 8.2.2, 8.2.3, 8.3, 8.3.1, 8.3.2, 9., 9.1, 9.1.1, 9.1.2, 9.2, 9.2.1, 9.39.3.1, 9.3.2, 9.3.3,9.4, 9.4.1, 9.4.2, 9.4.3, 9.4.5, 9.4.6, 9.5, 10, 11, 12, 13, 13.1, 13.2, 13.3, 13.4, 13.5, 13.6.
Port Townsend Paper Corporation | Administrative Order No. 7839, Revision 1 | 10/20/10 | 6/11/14, 79 FR 33438 | The following Conditions:1, 1.1, 1.2, 1.3, 2, 2.1, 3, 3.1, 4.
Lafarge North America, Inc. Seattle, Wa | Administrative Revised Order No. 7841 | 7/28/10 | 6/11/14, 79 FR 33438 | The following Conditions: 1, 1.1, 1.2, 2, 2.1, 2.1.1, 2.1.2, 2.2, 2.3, 3, 3.1, 3.1.1, 3.1.2, 3.1.3, 3.2, 3.3, 4, 4.1, 5, 5.1, 5.1.1, 5.1.2, 5.2, 5.3, 6, 6.1, 7, 7.1, 7.2, 7.3, 7.4, 7.5, 8, 8.1, 8.2, 8.3, 8.4, 8.5, 9, 10, 11, 12.
Weyerhaeuser Corporation, Longview, Wa | Administrative Order No. 7840 | 7/7/10 | 6/11/14, 79 FR 33438 | The following Conditions: 1, 1.1, 1.1.1, 1.1.2, 1.1.3, 1.2, 1.2.1, 1.2.2, 1.2.3, 1.3, 1.3.1, 1.4, 2, 2.1, 3, 3.1, 4, 4.1.
Tyson Fresh Meats, Inc | 13AQ-E526 | 4/16/14 | 5/1/20, 85 FR 25306 | Except: 1. Decontamination Cabinets;
|  |  |  | 2. Meat Cutting/Packing;
|  |  |  | 6. Wastewater Floatation;
|  |  |  | 8. Utility Equipment;
|  |  |  | 10. Other;
|  |  |  | References to “WAC 173-460-040” in Determinations”;
|  |  |  | The portion of Approval Condition 2.a which states, “and consumption of no more than 128 million cubic feet/of natural gas per year. Natural gas consumption records for the dryer shall be maintained for the most recent 24 month period and be available to Ecology for inspection. An increase in natural gas consumption that exceeds the above level may require a Notice of Construction.”;
|  |  |  | Approval Condition 3;
|  |  |  | Approval Condition 4;
|  |  |  | Approval Condition 5;
|  |  |  | Approval Condition 6.e;
|  |  |  | Approval Condition 9.a.ii;
|  |  |  | Approval Condition 9.a.iv;
|  |  |  | Approval Condition 9.a.v;
|  |  |  | Approval Condition 9.a.vi;
|  |  |  | Approval Condition 10.a.ii;
|  |  |  | Approval Condition 10.b;
|  |  |  | Approval Condition 11.a;
|  |  |  | Approval Condition 11.b;
|  |  |  | Approval Condition 11.e;
|  |  |  | Approval Condition 12;
|  |  |  | Approval Condition 15;
|  |  |  | The section titled “Your Right to Appeal”; and
|  |  |  | The section titled “Address and Location Information.”
Packaging Corporation of America (Wallula Mill) | 0003697 | 4/1/18 | 5/1/20, 85 FR 25306 | Condition P.1 only.
Simplot Feeders Limited Partnership | Fugitive Dust Control Plan | 3/1/18 | 5/1/20, 85 FR 25306
TransAlta Centralia BART—Second Revision | #6426 | 7/29/20 | 5/7/21, 86 FR 24502 | Except the undesignated introductory text, the section titled “Findings,” and the undesignated text following condition 9.
¹ The EPA does not have the authority to remove these source-specific requirements in the absence of a demonstration that their removal would not interfere with attainment or maintenance of the NAAQS, violate any prevention of significant deterioration increment or result in visibility impairment. Washington Department of Ecology may request removal by submitting such a demonstration to the EPA as a SIP revision.

* * * * *

[FR Doc. 2021-15878 Filed 8-2-21; 8:45 am]

BILLING CODE 6560-50-P